SMALL BUSINESS ADMINISTRATION

13 CFR Part 121

RIN 3245-AG50

Small Business Size Standards for Manufacturing

AGENCY: U.S. Small Business Administration.

ACTION: Proposed rule.

SUMMARY: The U.S. Small Business Administration (SBA) proposes to increase small business size standards for 209 industries in North American Industry Classification System (NAICS) Sector 31-33, Manufacturing. SBA also proposes to increase the refining capacity component of the Petroleum Refiners (NAICS 324110) size standard to 200,000 barrels per calendar day total capacity for businesses that are primarily engaged in petroleum refining. In addition, SBA proposes to eliminate the requirement that 90 percent of output being delivered is refined by the bidder. As part of its ongoing comprehensive size standards review, SBA evaluated employee based size standards for all 364 industries in NAICS Sector 31-33 to determine whether they should be retained or revised. This proposed rule is one of a series of proposed rules that will review size standards of industries grouped by NAICS Sector.

DATES: SBA must receive comments to this proposed rule on or before November 10, 2014.

ADDRESSES: Identify your comments by RIN 3245-AG50 and submit them by one of the following methods:

(1) Federal eRulemaking Portal: www.regulations.gov, following the instructions for submitting comments; or

(2) Mail/Hand Delivery/Courier: Khem R. Sharma, Ph.D., Chief, Size Standards Division, 409 Third Street SW., Mail Code 6530, Washington, DC 20416. SBA will not accept comments to this proposed rule submitted by email.

SBA will post all comments to this proposed rule on www.regulations.gov. If you wish to submit confidential business information (CBI) as defined in the User Notice at www.regulations.gov, you must submit such information to U.S. Small Business Administration, Khem R. Sharma, Ph.D., Chief, Size Standards Division, 409 Third Street SW., Mail Code 6530, Washington, DC 20416, or send an email to sizestandards@sba.gov. Highlight the information that you consider to be CBI and explain why you believe SBA should hold this information as confidential. SBA will review your information and determine whether it will make the information public.

FOR FURTHER INFORMATION CONTACT: Jorge Laboy-Bruno, Ph.D., Economist, Size Standards Division, (202) 205-6618 or sizestandards@sba.gov.

SUPPLEMENTARY INFORMATION: To determine eligibility for Federal small business assistance, SBA establishes small business size definitions (referred to as size standards) for private sector industries in the United States. SBA uses two primary measures of business size—average annual receipts and average number of employees. SBA uses financial assets, electric output, and refining capacity to measure the size of a few specialized industries. In addition, SBA's Small Business Investment Company (SBIC), Certified Development Company (504), and 7(a) Loan Programs use either the industry based size standards, or net worth and net income based alternative size standards to determine eligibility for those programs. At the start of the SBA's current comprehensive size standards review when the size standards were based on NAICS 2007, there were 41 different size standards covering 1,141 NAICS industries and 18 sub-industry activities (“exceptions” in SBA's table of size standards). Thirty-one of these size levels were based on average annual receipts, seven were based on average number of employees, and three were based on other measures. Presently, under NAICS 2012, there are 28 different size standards covering 1,031 industries and 16 “exceptions”. Of these, 533 are based on average annual receipts, 509 on number of employees (one of which also contains barrels per day total capacity), and five on average assets.

Over the years, SBA has received comments that its size standards have not kept up with changes in the economy, in particular the changes in the Federal contracting marketplace and industry structure. The last time SBA conducted a comprehensive size standards review was during the late 1970s and early 1980s. Since then, most reviews of size standards were limited to a few specific industries, mostly with receipts based size standards, in response to requests from the public and Federal agencies. SBA reviews all monetary based size standards (except for statutorily set size standards in NAICS Sector 11) for inflation at least once every five years. SBA's latest inflation adjustment to size standards was published in the Federal Register on June 12, 2014 (79 FR 33647). However, the vast majority of manufacturing size standards have not been reviewed since they were first established.

Because of changes in the Federal marketplace and industry structure since the last comprehensive size standards review, SBA recognizes that current data may no longer support some of its existing size standards. Accordingly, in 2007, SBA began a comprehensive size standards review to determine if they are consistent with current data, and to adjust them when necessary. In addition, on September 27, 2010, the President of the United States signed the Small Business Jobs Act of 2010 (Jobs Act). The Jobs Act directs SBA to conduct a detailed review of all size standards and to make appropriate adjustments to reflect market conditions. Specifically, the Jobs Act requires SBA to conduct a detailed review of at least one-third of all size standards during every 18-month period from the date of its enactment. In addition, the Jobs Act requires that SBA review all size standards not less frequently than once every five years thereafter. Reviewing existing small business size standards and making appropriate adjustments based on the latest available data are also consistent with Executive Order 13563 on improving regulation and regulatory review.

Rather than review all size standards at one time, SBA is reviewing size standards on a Sector by Sector basis. A NAICS Sector generally includes 25 to 75 industries, except for NAICS Sector 31-33, Manufacturing, which has more than 350 industries. As stated above, this proposed rule covers all industries in NAICS Sector 31-33. Once SBA completes its review of size standards for industries in a NAICS Sector, it issues a proposed rule to revise size standards for those industries based on latest industry and program data available and other relevant factors, such as current economic climate and SBA's and other government's programs and policies to help small businesses.

Below is a discussion of SBA's size standards methodology for establishing employee based size standards that the Agency applied to this proposed rule, including analyses of industry structure, Federal contracting factor, the impact of the proposed revisions to size standards on SBA's financial assistance to small businesses, and the evaluation of whether a revised size standard would exclude dominant firms from being considered small.

Size Standards Methodology

In conjunction with the current comprehensive size standards review, SBA developed a “Size Standards Methodology” for developing, reviewing, and modifying size standards when necessary. SBA published the document on its Web site at www.sba.gov/size for public review and comments, and has included it as a supporting document in the electronic docket of this proposed rule at www.regulations.gov. It should be noted that SBA does not apply all features of its “Size Standards Methodology” to all industries because not all features are appropriate for every industry. For example, since all industries in Sector 31-33 have employee based size standards, the methodology described in this proposed rule relates only to establishing employee based size standards. However, the methodology is available in its entirety for parties who have an interest in SBA's overall approach to establishing, evaluating, and modifying small business size standards. SBA always explains its methodology and analysis in individual proposed and final rules relating to size standards for specific industries.

SBA welcomes comments from the public on a number of issues concerning its “Size Standards Methodology,” that the Agency has applied in this proposed rule, such as whether there are other approaches to establishing and modifying size standards; whether there are alternative or additional factors that SBA should consider; whether SBA's approach to small business size standards makes sense in the current economic environment; whether SBA's use of anchor size standards is appropriate; whether there are gaps in SBA's methodology because the data it uses are not current or sufficiently comprehensive; and whether there are other data, facts, and/or issues that SBA should consider. Comments on SBA's size standards methodology should be submitted via: (1) The Federal eRulemaking Portal: www.regulations.gov, following the instructions for submitting comments; the docket number is SBA-2009-0008, or (2) Mail/Hand Delivery/Courier: Khem R. Sharma, Ph.D., Chief, Size Standards Division, 409 Third Street SW., Mail Code 6530, Washington, DC 20416. As it will do with comments to this and other proposed rules, SBA will post all comments on its methodology on www.regulations.gov. As of June 12, 2014, SBA has received 18 comments to its “Size Standards Methodology.” The comments are available to the public at www.regulations.gov. SBA continues to welcome comments on its methodology from interested parties. SBA will not accept comments to its “Size Standards Methodology” submitted by email.

Congress granted the SBA's Administrator discretion to establish detailed small business size standards. 15 U.S.C. 632(a)(2). Specifically, Section 3(a)(3) of the Small Business Act (15 U.S.C. 632(a)(3)) requires that “. . . the [SBA] Administrator shall ensure that the size standard varies from industry to industry to the extent necessary to reflect the differing characteristics of the various industries and consider other factors deemed to be relevant by the Administrator.” Accordingly, the economic structure of an industry is the basis for developing and modifying small business size standards. SBA identifies the small business segment of an industry by examining data on the economic characteristics defining the industry structure (as described below). In addition, SBA considers current economic conditions, its mission and program objectives, the Administration's current policies, suggestions from industry groups and Federal agencies, and public comments on the proposed rule. SBA also examines whether a size standard based on industry and other relevant data successfully excludes businesses that are dominant in the industry.

This proposed rule includes information regarding the factors SBA evaluated and the criteria it used to propose adjustments, where necessary, to size standards for industries covered by this rule. This proposed rule affords the public an opportunity to review and to comment on SBA's proposal to revise size standards for certain industries, as well as on the data and methodology it used to evaluate and revise the size standards.

Industry Analysis

For the current comprehensive size standards review, SBA has established three “base” or “anchor” size standards—$7.0 million in average annual receipts for industries that have receipts based size standards, 500 employees for Manufacturing and industries that have employee based size standards in non-manufacturing Sectors (except for Wholesale Trade and Retail Trade), and 100 employees for industries in the Wholesale and Retail Trade Sectors that have employee based size standards. SBA established 500 employees as the anchor size standard for manufacturing industries at its inception in 1953. Shortly thereafter, SBA established $1 million in average annual receipts as the anchor size standard for nonmanufacturing industries. SBA has periodically increased the receipts based anchor size standard for inflation, and today it is $7 million. Since 1986, the size standard for all industries in the Wholesale Trade Sector for SBA's financial assistance and for most Federal programs has been 100 employees. Presently, SBA also has employee based size standards for two industries in Retail Trade, namely NAICS 441110, New Car Dealers (200 employees) and NAICS 454310, Fuel Dealers (50 employees). However, NAICS codes for the Wholesale and Retail Trade Sectors and their size standards do not apply to Federal procurement programs. Rather, for Federal procurement the size standard for all industries in Wholesale Trade (NAICS Sector 42) and for all industries in Retail Trade (NAICS Sector 44-45) is 500 employees under the SBA's nonmanufacturer rule (13 CFR 121.406(b)).

These long-standing anchor size standards have stood the test of time and gained legitimacy through practice and general public acceptance. An anchor is neither a minimum nor a maximum size standard. It is a common size standard for a large number of industries that have similar economic characteristics and serves as a reference point in evaluating size standards for individual industries. SBA uses the anchor in lieu of trying to establish precise small business size standards for each industry. Otherwise, theoretically, the number of size standards might be as high as the number of industries for which SBA establishes size standards (i.e., more than 1,000). Furthermore, the data SBA analyzes are static, while the U.S. economy is not. Hence, absolute precision is impossible. Similarly, because of the disclosure problem in getting the distribution of firms by more granular size classes, the 2007 Economic Census tabulation (the latest available when this proposed rule was prepared) that SBA received from the U.S. Census Bureau for current size standards review would not allow an accurate regulatory impact analysis of size standards changes if precise, separate size standards were established for each industry. SBA presumes an anchor size standard is appropriate for a particular industry unless that industry displays economic characteristics that are considerably different from other industries with the same anchor size standard.

When evaluating a size standard, SBA compares the economic characteristics of the industry under review to the average characteristics of industries with one of the three anchor size standards (referred to as the “anchor comparison group”). This allows SBA to assess the industry structure and to determine whether the industry is appreciably different from the other industries in the anchor comparison group. If the characteristics of a specific industry under review are similar to the average characteristics of the anchor comparison group, the anchor size standard is generally appropriate for that industry. SBA may consider adopting a size standard below the anchor when: (1) All or most of the industry characteristics are significantly smaller than the average characteristics of the anchor comparison group; or (2) other industry considerations strongly suggest that the anchor size standard would be an unreasonably high size standard for the industry.

If the specific industry's characteristics are significantly higher than those of the anchor comparison group, then a size standard higher than the anchor size standard may be appropriate. The larger the differences are between the characteristics of the industry under review and those in the anchor comparison group, the larger will be the difference between the appropriate industry size standard and the anchor size standard. To determine a size standard above the anchor size standard, SBA analyzes the characteristics of a second comparison group.

For industries with employee based size standards in manufacturing and industries not in Sector 42 (Wholesale Trade) or Sector 44-45 (Retail Trade), SBA has developed a second comparison group consisting of industries that have the highest of employee based size standards. To determine a size standard above the 500-employee anchor size standard, SBA analyzes the characteristics of this second comparison group. The industries in this group have size standards of either 1,000 employees or 1,500 employees; the weighted average size standard for the group is 1,323 employees. SBA refers to this comparison group as the “higher level employee based size standard group.”

To examine industry structure, SBA evaluates average firm size, startup costs and entry barriers, industry competition, and distribution of firms by size. SBA also evaluates the level and small business share of total Federal contracting dollars. These are, generally, the five primary factors SBA examines when establishing or revising a size standard for an industry. However, SBA will also consider and evaluate other information that it believes is relevant to a particular industry (such as technological changes, growth trends, SBA financial assistance, other program factors, etc.). SBA also considers possible impacts of size standard revisions on eligibility for Federal small business assistance, current economic conditions, the Administration's policies, and suggestions from industry groups and Federal agencies. Public comments on a proposed rule also provide important additional information. SBA thoroughly reviews all public comments before making a final decision on its proposed size standards. Below are brief descriptions of each of the five primary factors that SBA has evaluated for each industry and sub-industry covered by this proposed rule. A more detailed description of these factors is provided in SBA's “Size Standards Methodology,” available at http://www.sba.gov/size.

1. Average firm size. SBA computes two measures of average firm size: Simple average and weighted average. For industries with employee based size standards, the simple average firm size is the total number of employees in an industry divided by the total number of firms in that industry. The weighted average firm size is the sum of weighted simple average firm sizes in different employee size classes, where weights are the shares of total industry employees for respective employee size classes. The simple average firm size weighs all firms within an industry equally regardless of their size. The weighted average firm size overcomes that limitation by giving more weight to larger firms.

If the average firm size of an industry is significantly higher than the average firm size of industries in the anchor comparison industry group, this will generally support a size standard higher than the anchor size standard. Conversely, if the industry's average firm size is similar to or significantly lower than that of the anchor comparison industry group, it will be a basis to adopt the anchor size standard, or, in rare cases, a standard lower than the anchor.

2. Startup costs and entry barriers. Startup costs reflect a firm's initial size in an industry. New entrants to an industry must have sufficient capital and other assets to start and maintain a viable business. If new firms entering a particular industry have greater capital requirements than firms in industries in the anchor comparison group, this can be a basis for establishing a size standard higher than the anchor size standard. In lieu of actual startup cost data, SBA uses average assets as a proxy to measure the capital requirements for new entrants to an industry.

To calculate average assets, SBA begins with the sales to total assets ratio for an industry from the Risk Management Association's Annual eStatement Studies. SBA then applies these ratios to the average receipts of firms in that industry. An industry with average assets that are significantly higher than those of the anchor comparison group is likely to have higher startup costs; this in turn will support a size standard higher than the anchor. Conversely, an industry with average assets that are similar to or lower than those of the anchor comparison group is likely to have lower startup costs; this will support the anchor standard or one lower than the anchor.

3. Industry competition. Industry competition is generally measured by the share of total industry receipts generated by the largest firms in an industry. SBA generally evaluates the share of industry receipts generated by the four largest firms in each industry. This is referred to as the “four-firm concentration ratio,” a commonly used economic measure of market competition. If a significant share of economic activity within the industry is concentrated among a few relatively large companies, all else being equal, SBA will establish a size standard higher than the anchor size standard. SBA does not consider the four-firm concentration ratio as an important factor in assessing a size standard if its share of economic activity of the largest four firms within the industry is less than 40 percent. For an industry with a four-firm concentration ratio of 40 percent or more, SBA compares the average employee size of the four largest firms in the industry with the average employee size of the four largest firms in the anchor and higher level size comparison groups to determine an employee size standard for that industry.

4. Distribution of firms by size. For employee based size standards, SBA examines the shares of industry total receipts accounted for by firms of various employment size classes in an industry. This is an additional factor SBA examines in assessing industry competition. If most of an industry's economic activity is attributable to smaller firms, this generally indicates that small businesses are competitive in that industry. This can, generally, support adopting the anchor size standard. If most of an industry's economic activity is attributable to larger firms, this indicates that small businesses are not competitive in that industry. This can support adopting a size standard above the anchor.

Concentration is a measure of inequality of distribution. To determine the degree of inequality of distribution in an industry, SBA computes the Gini coefficient by constructing the Lorenz curve. The Lorenz curve presents the cumulative percentages of units (firms) in various employee size classes along the horizontal axis and the cumulative percentages of receipts (or other measures of size) in the same employee size classes along the vertical axis. (For further detail, please refer to SBA's “Size Standards Methodology” on its Web site at www.sba.gov/size.) Gini coefficient values vary from zero to one. If receipts are distributed equally among all the firms in an industry, the value of the Gini coefficient will equal zero. If an industry's total receipts are attributed to a single firm, the Gini coefficient will equal one.

SBA compares the Gini coefficient value for an industry with that for industries in the anchor comparison group. If the Gini coefficient value for an industry is higher than it is for industries in the anchor comparison industry group this may, all else being equal, warrant a size standard higher than the anchor. Conversely, if an industry's Gini coefficient is similar to or lower than that for the anchor group, the anchor standard, or in some cases a standard lower than the anchor, may be adopted.

5. Impact on Federal contracting and SBA loan programs. SBA examines the possible impact a size standard change may have on Federal small business assistance. This most often focuses on the level and small business share of total Federal contracting dollars in the industry in question. In general, if the small business share of total Federal contracting dollars in an industry with significant Federal contracting is appreciably less than the small business share of the industry's total receipts, this could justify considering a size standard higher than the existing size standard. If the small business share of an industry's total Federal contracting dollars is similar to or higher than the small business share of its total receipts, this would support the existing size standard for that industry. By comparing the small business share in the Federal market with the small business share in the industry-wide market, SBA accounts for conditions in the Federal market in its size standards analysis. The disparity between the small business Federal market share and small business industry-wide share may be due to various factors, such as extensive administrative and compliance requirements associated with Federal contracts, the different skill set required for Federal contracts as compared to typical commercial contracting work, and the size of Federal contracts. Data permitting, SBA will also examine these, as well as other factors that are likely to influence the type of firms within an industry that compete for Federal contracts.

SBA considers the Federal contracting factor in an industry's size standards analysis only if the industry's total Federal contracting dollars average $100 million or more annually during the latest three fiscal years. SBA believes that this threshold reflects a significant level of contracting where a revision to a size standard may have an impact on contracting opportunities to small businesses. For industries where total contracting dollars average $100 million or more annually, SBA establishes a size standard higher than the existing size standard if the small business share of total industry receipts is 10 percent or higher than the small business share of total industry receipts. If this difference is less than 10 percent, this would support the existing size standard.

Besides the impact on small business Federal contracting, SBA also evaluates the impact of a proposed size standard revision on SBA's loan programs. For this, SBA examines the data on volume and number of its guaranteed loans within an industry and the size of firms obtaining those loans. This allows SBA to assess whether the existing, proposed, or revised size standard for a particular industry may restrict the level of financial assistance to small firms. If existing size standards are found to have impeded financial assistance to small businesses, higher size standards may be justified. However, if small businesses under existing size standards have been receiving significant amounts of financial assistance through SBA's loan programs, or if the financial assistance has been provided mainly to businesses that are much smaller than the existing size standards, SBA does not consider this factor when determining the size standard.

Sources of Industry and Program Data

SBA's primary source of industry data used in this proposed rule is a special tabulation of the 2007 Economic Census (see www.census.gov/econ/census07/) prepared by the U.S. Bureau of the Census (Census Bureau) for SBA. The 2007 Economic Census data are the latest Economic Census data available at the time of drafting this proposed rule. SBA expects to receive the special tabulation from the 2012 Economic Census in 2016 for the next round of comprehensive size standards review. The special tabulation provides SBA with data on the number of firms, number of establishments, number of employees, annual payroll, and annual receipts of companies by Industry (6-digit level), Industry Group (4-digit level), Subsector (3-digit level), and Sector (2-digit level). These data are arrayed by various classes of firms' size based on the overall number of employees and receipts of the entire enterprise (all establishments and affiliated firms) from all industries. The special tabulation enables SBA to evaluate average firm size, the four-firm concentration ratio, and distribution of firms by various receipts and employment size classes. It should be noted that the Economic Census tabulation data on the number of firms, number of establishments, number of employees, annual payroll, and annual receipts for a particular NAICS Industry category relate to establishments and firms that are primarily engaged in that Industry. To mitigate this limitation of the Economic Census tabulation data, SBA also examines the data from the System of Award Management (SAM) (formerly Central Contractor Registration (CCR)) and FPDS-NG which provides more recent data on Federal contract awards by NAICS code and the actual size of the concerns receiving the contract awards.

In some cases, where data were not available at the 6-digit industry level due to disclosure prohibitions in the Census Bureau's tabulation, SBA either estimates missing values using available relevant data or examines data at a higher level of industry aggregation, such as at the NAICS 2-digit (Sector), 3-digit (Subsector), or 4-digit (Industry Group) level. In some instances, SBA's analysis is based only on those factors for which data are available or estimates of missing values are possible.

To evaluate the refining capacity component of the size standard for NAICS 324110, Petroleum Refiners, SBA evaluated a special tabulation of refinery production data obtained from Energy Information Administration (EIA). SBA obtained the data on number of employees for petroleum refining companies in the EIA tabulation from Duns and Bradstreet (www.dnb.com) and those companies' SAM (CCR) profiles.

To calculate average assets, SBA used sales to total assets ratios from the Risk Management Association's Annual eStatement Studies, 2009-2011, available at www.statementstudies.org.

To evaluate the Federal contracting factor, SBA examined the data from FPDS-NG for fiscal years 2009-2011, available at https://www.fpds.gov and 2007 Economic Census tabulation, which is the latest available as stated elsewhere in the rule.

To assess the impact on financial assistance to small businesses, SBA examined its internal data on 7(a) and 504 loan programs for fiscal years 2010-2012.

Data sources and estimation procedures SBA uses in its size standards analysis are documented in detail in SBA's “Size Standards Methodology” White Paper, which is available at www.sba.gov/size.

Dominance in Field of Operation

Section 3(a) of the Small Business Act (15 U.S.C. 632(a)) defines a small business concern as one that: (1) Is independently owned and operated; (2) is not dominant in its field of operation; and (3) meets a specific small business definition or size standard established by SBA's Administrator. SBA considers as part of its evaluation whether a business concern at a proposed or revised size standard would be dominant in its field of operation. For this, SBA generally examines the industry's market share of firms at the proposed or revised standard. SBA also examines distribution of firms by size to ensure that a contemplated size standard derived from its size standards analysis excludes the largest firms within an industry. Market share, the size distribution and other factors may indicate whether a firm can exercise a major controlling influence on a national basis in an industry where a significant number of business concerns are engaged. If a contemplated size standard includes dominant or the largest firms in an industry, SBA will consider a lower size standard than the one suggested by the analytical results to exclude the dominant and largest firms from being defined as small.

Selection of Size Standards

In NAICS Sector 31-33 (Manufacturing), currently there are four levels of employee based size standards: 500 employees (minimum), 750 employees, 1,000 employees, and 1,500 employees (maximum). In this proposed rule, SBA has applied its “Size Standards Methodology” for employee based size standards with two modifications. First, to be consistent with its policy of not lowering any size standards in all recent proposed and final rules on receipts based size standards, SBA is retaining the current 500-employee minimum and 1,500-employee maximum size standards for all industries in the Manufacturing Sector. In its “Size Standards Methodology,” SBA had proposed setting the minimum size standard for manufacturing industries at 250 employees and the maximum size standard at 1,000 employees. However, doing so would mean lowering existing size standards, thereby making currently small businesses ineligible to continue their participation in Federal small business programs. This would run counter to what SBA and the Administration are doing to help small businesses to create jobs and boost economic growth. Further, lowering a manufacturing size standard below 500 employees would conflict with the existing 500-employee size standard for non-manufacturers under the SBA's non-manufacturer's rule. Second, SBA is proposing a new 1,250-employee size standard between 1,000 employees and 1,500 employees. This new size standard level maintains the same 250-employee increment between the two successive levels that SBA has below 1,000 employees (500, 750, 1,000). SBA proposes, therefore, to apply one of these five employee based size standards to the analysis of size standards for industries in the Manufacturing Sector: 500 employees, 750 employees, 1,000 employees, 1,250 employees, and 1,500 employees.

To simplify size standards and for other reasons, SBA may propose a common size standard for closely related industries. Although the size standard analysis may support a separate size standard for each industry, SBA believes that establishing different size standards for closely related industries may not always be appropriate. For example, in cases where many of the same businesses operate in the same multiple industries, a common size standard for those industries might better reflect the Federal marketplace. This might also make size standards among related industries more consistent than separate size standards for each of those industries. Whenever SBA proposes a common size standard for closely related industries it will provide its justification.

Evaluation of Industry Structure

In this proposed rule, SBA evaluated 364 industries in NAICS Sectors 31-33 to assess the appropriateness of their current size standards. As described above, SBA compared data on the economic characteristics of each of those industries to the average characteristics of industries in two comparison groups. The first comparison group consists of all industries in Manufacturing and industries not in Wholesale Trade or Retail Trade with 500-employee size standards. SBA refers this group of industries to as the “employee based anchor comparison group.” Because the goal of SBA's review is to assess whether a specific industry's size standard should be the same as or different from the anchor size standard, this is the most logical group of industries to analyze. In addition, this group includes a sufficient number of firms to provide a meaningful assessment and comparison of industry characteristics.

As stated previously, if the characteristics of an industry are similar to the average characteristics of industries in the anchor comparison group, the anchor size standard is generally appropriate for that industry. If an industry's structure is significantly different from industries in the anchor group, a size standard lower or higher than the anchor size standard might be appropriate. The proposed new size standard is based on the difference between the characteristics of the anchor comparison group and a second industry comparison group. As described above, the second comparison group for employee based standards consists of industries with either 1,000-employee or 1,500-employee size standards. The weighted average size standard for this group is 1,323 employees. SBA refers this group of industries to as the “higher level employee based size standard comparison group.” SBA determines differences in industry structure between an industry under review and the industries in the two comparison groups by comparing data on each of the industry factors, including average firm size, average assets size, the four-firm concentration ratio, and the Gini coefficient of distribution of firms by size. Table 1, Average Characteristics of Employee Based Comparison Groups, shows the average firm size (both simple and weighted), average assets size, four-firm concentration ratio, average employees of the four largest firms, and the Gini coefficient for both anchor level and higher level comparison groups for employee based size standards.

Table 1—Average Characteristics of Employee Based Comparison Groups
Employee based comparison group | Average firm size (number of employees): Simple average | Average firm size (number of employees): Weighted average | Average assets size ($ million) | Four-firm concentration ratio (%) | Average employees of four largest firms * | Gini coefficient
Anchor Level | 51 | 322 | $6.4 | 35.9 | 1,267 | 0.765
Higher Level | 136 | 602 | 37.0 | 64.3 | 2,033 | 0.808
* To be used for industries with a four-firm concentration ratio of 40% or greater.

Derivation of Size Standards Based on Industry Factors

For each industry factor in Table 1, Average Characteristics of Employee Based Comparison Groups, SBA derives a separate size standard based on the differences between the values for an industry under review and the values for the two comparison groups. If the industry value for a particular factor is near the corresponding factor for the anchor comparison group, the 500-employee anchor size standard is appropriate for that factor.

An industry factor significantly above or below the anchor comparison group will generally imply a size standard for that industry above or below the 500-employee anchor. The new size standard in these cases is based on the proportional difference between the industry value and the values for the two comparison groups.

For example, an industry's simple average firm size of 75 employees will support a 750-employee size standard. The 75-employee level is 28.2 percent between 51 employees for the anchor comparison group and 136 employees for the higher level comparison group ((75 employees − 51 employees) ÷ (136 employees − 51 employees) = 0.282 or 28.2%). This proportional difference is applied to the difference between the size standard of 500 employees for the anchor level size standard group and average size standard of 1,323 employees for the higher level size standard group and then added to 500 employees to estimate a size standard of 733 employees ([{1,323 employees − 500 employees} * 0.282] + 500 employees = 733 employees). The final step is to round the estimated 733-employee size standard to the nearest size standard level, which in this example is 750 employees.

SBA applies the above calculation to derive a size standard for each industry factor. Detailed formulas involved in these calculations are presented in SBA's “Size Standards Methodology” which is available on its Web site at www.sba.gov/size. As stated above, SBA has also included its “Size Standards Methodology” as a supporting document in the electronic docket of this proposed rule at www.regulations.gov. (However, it should be noted that figures in the “Size Standards Methodology” White Paper are based on 2002 Economic Census data and are different from those presented in this proposed rule. That is because when SBA prepared its “Size Standards Methodology,” the 2007 Economic Census data were not yet available). Table 2, Values of Industry Factors and Supported Size Standards, below, shows ranges of values for each industry factor and the levels of size standards supported by those values.

Table 2—Values of Industry Factors and Supported Size Standards
If simple average firm size (number of employees) | Or if weighted average firm size (number of employees) | Or if average assets size ($ million) | Or if average number employees of largest four firms | Or if Gini coefficient | Then implied size standard is (number of employees)
< 63.9 | < 364.5 | < 11.1 | < 1,383.3 | < 0.772 | 500
63.9 to < 89.7 | 364.5 to < 449.6 | 11.1 to < 20.3 | 1,383.3 to < 1,616.0 | 0.772 to < 0.785 | 750
89.7 to < 115.6 | 449.6 to < 534.6 | 20.3 to < 29.6 | 1,616.0 to < 1,848.7 | 0.785 to < 0.798 | 1,000
115.6 to < 141.4 | 534.6 to < 619.7 | 29.6 to < 38.9 | 1,848.7 to < 2,081.4 | 0.798 to < 0.811 | 1,250
≥ 141.4 | ≥ 619.7 | ≥ 38.9 | ≥ 2,081.4 | ≥ 0.811 | 1,500

Derivation of Size Standard Based on Federal Contracting Factor

Besides industry structure, SBA also evaluates Federal contracting data to assess the success of small businesses in getting Federal contracts under the existing size standards. For industries where Federal contract dollars average $100 million or more annually and the small business share of total Federal contracting dollars is 10 to 30 percent lower than the small business share of total industry receipts, SBA has designated a size standard one level higher than their current size standard. For industries where the small business share of total Federal contracting dollars is more than 30 percent lower than the small business share of total industry receipts, SBA has designated a size standard two levels higher than the current size standard. For industries, where this difference is less than 10 percent, SBA applies the existing size standard for the Federal contracting factor.

Because of the complex relationships among several variables affecting small business participation in the Federal marketplace, SBA has chosen not to designate a size standard for the Federal contracting factor alone that is more than two levels above the current size standard. SBA believes that a larger adjustment to size standards based on Federal contracting activity should be based on a more detailed analysis of the impact of any subsequent revision to the current size standard. In limited situations, however, SBA may conduct a more extensive examination of Federal contracting experience. This may support a different size standard than indicated by this general rule and take into consideration significant and unique aspects of small business competitiveness in the Federal contract market. SBA welcomes comments on its methodology for incorporating the Federal contracting factor in its size standard analysis and suggestions for alternative methods and other relevant information on small business experience in the Federal contract market that SBA should consider.

When SBA adopted NAICS 2012 for its size standards, a number of industries under NAICS 2007 were merged to form new industries or combined with other existing industries. SBA adopted the highest size standard among the merged or combined industries under NAICS 2007 as the size standard for the new industry or modified industry under NAICS 2012. As a result, the size standard increased, effective October 1, 2012, for a number of industries in NAICS Sector 31-33. However, FPDS-NG data for fiscal years 2009-2011 that SBA analyzed to derive the Federal contracting factor were based on older size standards under NAICS 2007. Thus, for industries for which the size standard increased due to the adoption of NAICS 2012, the Federal contracting factor was based on the size standard that was on effect prior to October 1, 2012. Similarly, where multiple industries were merged to a new, single industry, the size standard for Federal contract factor for the new industry was the weighted average size standard of the merged industries prior to October 1, 2012, rounded to the nearest size level. The shares of contract dollars of individual merged industries served as the weights in computing the weighted average size standard.

Of the 364 industries reviewed in this proposed rule, 119 averaged $100 million or more annually in Federal contracting during fiscal years 2009-2011 and thus, the Federal contracting factor was significant for those industries. Of the 119 industries, the difference between the small business share of total industry receipts and small business share of Federal contracting dollars was less than 10 percent for 78 industries and in this proposed rule, SBA applied the existing size standard to each. This difference was between 10 and 30 percent for 29 industries for which a size standard one level higher than the existing size standard was applied. Finally, in 12 industries, this difference was more than 30 percent and a size standard that was two levels higher than the existing size standard was applied.

New Size Standards Based on Industry and Federal Contracting Factors

Table 3, Size Standards Supported by Each Factor for Each Industry (No. of Employees), below, shows the results of analyses of industry and Federal contracting factors for each industry covered by this proposed rule. Many NAICS industries in columns 2, 3, 4, 6, and 7 show two numbers. The upper number is the value for the industry factor shown on the top of the column and the lower number is the size standard supported by that factor. For the four-firm concentration ratio, SBA estimates a size standard only if its value is 40 percent or more. If the four-firm concentration ratio for an industry is less than 40 percent, SBA does not estimate a size standard for that factor. If the four-firm concentration ratio is 40 percent or more, SBA indicates in column 6 the average size of the industry's four largest firms together with a size standard based on that average. Column 9 shows a calculated new size standard for each industry. This is the average of the size standards supported by each factor, rounded to the nearest fixed size level. However, the size standards for the simple average and weighted average firm size are averaged together, and therefore receive a single weight. Analytical details involved in the averaging procedure are described in SBA's “Size Standard Methodology.” For comparison with the new standards, the current size standards are in column 10 of Table 3.

Table 3—Size Standards Supported by Each Factor for Each Industry (Number of Employees)
[Upper Value = Calculated Factor, Lower Value = Size Standard Supported]
NAICS code NAICS industry title | Simple average firm size (number of employees) | Weighted average firm size (number of employees) | Average assets size ($ million) | Four-firm ratio % | Four-firm average size (number of employees) | Gini coefficient | Federal contract factor (%) | Calculated size standard (number of employees) | Current size standard (number of employees)
(1) | (2) | (3) | (4) | (5) | (6) | (7) | (8) | (9) | (10)
311111 Dog and Cat Food Manufacturing | 85 750 | 551 1,250 |  | 71.0 | 1,591 750 | 0.884 1,500 |  | 1,000 | 500
311119 Other Animal Food Manufacturing | 29 500 | 146 500 | $8.3 500 | 30.1 |  | 0.784 750 |  | 500 | 500
311211 Flour Milling | 60 500 | 427 750 | 25.9 1,000 | 54.5 | 957 500 | 0.821 1,500 | −14.9 750 | 1,000 | 500
311212 Rice Milling | 66 750 | 256 500 |  | 45.6 | 419 500 | 0.693 500 |  | 500 | 500
311213 Malt Manufacturing | 68 750 | 123 500 |  | 73.2 | 145 500 | 0.559 500 |  | 500 | 500
311221 Wet Corn Milling | 248 1,500 | 1,101 1,500 |  | 83.8 | 1,384 750 | 0.823 1,500 |  | 1,250 | 750
311224 Soybean and Other Oilseed Processing | 76 750 | 347 500 |  |  |  | 0.824 1,500 | 8.8 500 | 1,000 | 1,000
311225 Fats and Oils Refining and Blending | 116 1,000 | 337 500 |  | 54.4 | 855 500 | 0.725 500 | 62.3 1,000 | 750 | 1,000
311230 Breakfast Cereal Manufacturing | 392 1,500 | 1,214 1,500 |  | 80.4 | 1,817 1,000 | 0.754 500 |  | 1,000 | 1,000
311313 Beet Sugar Manufacturing | 550 1,500 | 796 1,500 |  | 81.5 | 1,233 500 | 0.325 500 |  | 750 | 750
311314 Cane Sugar Manufacturing | 227 1,500 | 430 750 |  |  |  | 0.567 500 |  | 1,000 | 750
311340 Nonchocolate Confectionery Manufacturing | 44 500 | 329 500 |  | 38.2 |  | 0.840 1,500 |  | 1,000 | 500
311351 Chocolate and Confectionery Manufacturing from Cacao Beans | 50 500 | 464 1,000 |  |  |  | 0.895 1,500 |  | 1,250 | 500
311352 Confectionery Manufacturing from Purchased Chocolate | 29 500 | 485 1,000 | 4.0 500 |  |  | 0.913 1,500 |  | 1,000 | 500
311411 Frozen Fruit, Juice, and Vegetable Manufacturing | 231 1,500 | 911 1,500 | 45.3 1,500 | 41.1 | 3,213 1,500 | 0.737 500 | 22.3 500 | 1,000 | 500
311412 Frozen Specialty Food Manufacturing | 150 1,500 | 879 1,500 | 16.6 750 | 29.4 |  | 0.819 1,500 |  | 1,250 | 500
311421 Fruit and Vegetable Canning | 102 1,000 | 656 1,500 | 20.6 1,000 | 24.4 |  | 0.831 1,500 | 6.8 500 | 1,000 | 500
311422 Specialty Canning | 139 1,250 | 970 1,500 |  | 75.9 | 1,664 1,000 | 0.876 1,500 |  | 1,250 | 1,000
311423 Dried and Dehydrated Food Manufacturing | 101 1,000 | 388 750 | 20.6 1,000 | 35.9 |  | 0.720 500 |  | 750 | 500
311511 Fluid Milk Manufacturing | 196 1,500 | 896 1,500 | 35.2 1,250 | 46.0 | 6,316 1,500 | 0.774 750 | 29.6 500 | 1,000 | 500
311512 Creamery Butter Manufacturing | 67 750 | 145 500 | 30.1 1,250 | 78.9 | 225 500 | 0.589 500 |  | 750 | 500
311513 Cheese Manufacturing | 121 1,250 | 729 1,500 | 34.7 1,250 | 31.5 |  | 0.818 1,500 | −0.7 500 | 1,250 | 500
311514 Dry, Condensed, and Evaporated Dairy Product Manufacturing | 108 1,000 | 403 750 |  | 41.9 | 1,195 500 | 0.726 500 |  | 750 | 500
311520 Ice Cream and Frozen Dessert Manufacturing | 53 500 | 445 750 | 12.1 750 | 52.7 | 1,818 1,000 | 0.863 1,500 |  | 1,000 | 500
311611 Animal (except Poultry) Slaughtering | 96 1,000 | 7,661 1,500 | 12.2 750 | 59.4 | 20,844 1,500 | 0.953 1,500 | 18.3 500 | 1,000 | 500
311612 Meat Processed from Carcasses | 85 750 | 936 1,500 | 9.1 500 | 27.9 |  | 0.848 1,500 |  | 1,000 | 500
311613 Rendering and Meat Byproduct Processing | 78 750 | 517 1,000 | 10.3 500 | 42.8 | 974 500 | 0.691 500 |  | 750 | 500
311615 Poultry Processing | 749 1,500 | 7,247 1,500 | 57.4 1,500 | 45.7 | 26,713 1,500 | 0.875 1,500 | −3.6 500 | 1,250 | 500
311710 Seafood Product Preparation and Packaging | 69 750 | 547 1,250 | 7.9 500 |  |  | 0.786 1,000 |  | 750 | 500
311811 Retail Bakeries | 9 500 | 27 500 | 0.2 500 | 3.7 |  | 0.396 500 |  | 500 | 500
311812 Commercial Bakeries | 61 500 | 1,180 1,500 | 4.5 500 | 37.3 |  | 0.886 1,500 | −12.6 750 | 1,000 | 500
311813 Frozen Cakes, Pies, and Other Pastries Manufacturing | 96 1,000 | 322 500 |  | 32.4 |  | 0.753 500 |  | 750 | 500
311821 Cookie and Cracker Manufacturing | 100 1,000 | 1,267 1,500 | 14.8 750 | 69.3 | 3,372 1,500 | 0.918 1,500 |  | 1,250 | 750
311824 Dry Pasta, Dough, and Flour Mixes Manufacturing from Purchased Flour | 50 500 | 242 500 |  |  |  | 0.781 750 |  | 750 | 500
311830 Tortilla Manufacturing | 48 500 | 932 1,500 |  | 57.4 | 1,726 1,000 | 0.850 1,500 |  | 1,250 | 500
311911 Roasted Nuts and Peanut Butter Manufacturing | 74 750 | 346 500 | 13.9 750 | 33.5 |  | 0.727 500 |  | 750 | 500
311919 Other Snack Food Manufacturing | 113 1,000 | 986 1,500 | 24.5 1,000 | 71.1 | 3,695 1,500 | 0.905 1,500 |  | 1,250 | 500
311920 Coffee and Tea Manufacturing | 38 500 | 270 500 | 9.3 500 | 43.3 | 677 500 | 0.867 1,500 |  | 750 | 500
311930 Flavoring Syrup and Concentrate Manufacturing | 45 500 | 222 500 | 29.1 1,000 | 80.3 | 583 500 | 0.896 1,500 |  | 1,000 | 500
311941 Mayonnaise, Dressing, and Other Prepared Sauce Manufacturing | 53 500 | 304 500 | 9.7 500 | 36.2 |  | 0.801 1,250 |  | 750 | 500
311942 Spice and Extract Manufacturing | 58 500 | 222 500 | 12.7 750 | 29.6 |  | 0.743 500 |  | 500 | 500
311991 Perishable Prepared Food Manufacturing | 56 500 | 280 500 | 5.4 500 | 27.8 |  | 0.775 750 |  | 500 | 500
311999 All Other Miscellaneous Food Manufacturing | 43 500 | 262 500 | 5.7 500 | 18.7 |  | 0.761 500 | −29.0 750 | 500 | 500
312111 Soft Drink Manufacturing | 207 1,500 | 1,599 1,500 | 76.6 1,500 | 58.1 | 5,557 1,500 | 0.861 1,500 | 6.0 500 | 1,250 | 500
312112 Bottled Water Manufacturing | 43 500 | 552 1,250 | 12.4 750 | 71.9 | 1,528 750 | 0.891 1,500 | 57.1 500 | 1,000 | 500
312113 Ice Manufacturing | 16 500 | 555 1,250 |  | 63.6 | 703 500 | 0.720 500 |  | 750 | 500
312120 Breweries | 60 500 | 4,594 1,500 | 33.4 1,250 | 89.5 | 3,929 1,500 | 0.942 1,500 |  | 1,250 | 500
312130 Wineries | 18 500 | 357 500 | 9.6 500 | 42.3 | 1,753 1,000 | 0.845 1,500 |  | 1,000 | 500
312140 Distilleries | 110 1,000 | 690 1,500 |  | 69.5 | 1,225 500 | 0.867 1,500 |  | 1,000 | 750
312230 Tobacco Manufacturing | 245 1,500 | 978 1,500 | 195.8 1,500 |  |  | 0.840 1,500 | −5.0 1,000 | 1,500 | 1,000
313110 Fiber, Yarn, and Thread Mills | 133 1,250 | 1,041 1,500 | 15.1 750 |  |  | 0.832 1,500 |  | 1,250 | 500
313210 Broadwoven Fabric Mills | 79 750 | 482 1,000 | 8.5 500 | 22.2 |  | 0.806 1,250 |  | 1,000 | 1,000
313220 Narrow Fabric Mills and Schiffli Machine Embroidery | 36 500 | 146 500 | 2.1 500 |  |  | 0.720 500 |  | 500 | 500
313230 Nonwoven Fabric Mills | 94 1,000 | 352 500 |  | 45.3 | 1,443 750 | 0.774 750 |  | 750 | 500
313240 Knit Fabric Mills | 45 500 | 227 500 |  |  |  | 0.724 500 |  | 500 | 500
313310 Textile and Fabric Finishing Mills | 33 500 | 211 500 | 3.0 500 |  |  | 0.758 500 |  | 500 | 1,000
313320 Fabric Coating Mills | 49 500 | 120 500 | 7.1 500 | 21.6 |  | 0.599 500 |  | 500 | 1,000
314110 Carpet and Rug Mills | 137 1,250 | 1,779 1,500 | 24.9 1,000 | 63.6 | 4,751 1,500 | 0.905 1,500 |  | 1,500 | 500
314120 Curtain and Linen Mills | 18 500 | 194 500 | 1.2 500 |  |  | 0.802 1,250 |  | 750 | 500
314910 Textile Bag and Canvas Mills | 15 500 | 96 500 | 0.9 500 |  |  | 0.658 500 | −13.7 750 | 500 | 500
314994 Rope, Cordage, Twine, Tire Cord, and Tire Fabric Mills | 49 500 | 286 500 |  |  |  | 0.821 1,500 |  | 1,000 | 1,000
314999 All Other Miscellaneous Textile Product Mills | 17 500 | 152 500 | 1.0 500 | 20.7 |  | 0.765 500 | −23.6 750 | 500 | 500
315110 Hosiery and Sock Mills | 75 750 | 415 750 | 5.3 500 |  |  | 0.795 1,000 |  | 750 | 500
315190 Other Apparel Knitting Mills | 28 500 | 138 500 | 2.8 500 |  |  | 0.791 1,000 |  | 750 | 500
315210 Cut and Sew Apparel Contractors | 13 500 | 73 500 | 0.4 500 |  |  | 0.488 500 | −64.0 1,000 | 750 | 500
315220 Men's and Boys' Cut and Sew Apparel Manufacturing | 50 500 | 416 750 | 2.7 500 |  |  | 0.817 1,500 | −5.1 500 | 750 | 500
315240 Women's, Girls', and Infants' Cut and Sew Apparel Manufacturing | 26 500 | 225 500 | 2.9 500 |  |  | 0.794 1,000 |  | 750 | 500
315280 Other Cut and Sew Apparel Manufacturing | 25 500 | 129 500 | 1.3 500 |  |  | 0.747 500 | −41.2 1,000 | 750 | 500
315990 Apparel Accessories and Other Apparel Manufacturing | 19 500 | 205 500 | 0.9 500 |  |  | 0.773 750 | −8.3 500 | 500 | 500
316110 Leather and Hide Tanning and Finishing | 19 500 | 110 500 | 2.6 500 | 38.5 |  | 0.751 500 |  | 500 | 500
316210 Footwear Manufacturing | 55 500 | 550 1,250 |  |  |  | 0.827 1,500 | 7.8 500 | 1,000 | 1,000
316992 Women's Handbag and Purse Manufacturing | 18 500 | 173 500 |  | 85.9 | 251 500 | 0.886 1,500 |  | 750 | 500
316998 All Other Leather Good and Allied Product Manufacturing | 21 500 | 184 500 |  |  |  | 0.739 500 |  | 500 | 500
321113 Sawmills | 27 500 | 272 500 | 4.2 500 | 14.6 |  | 0.765 500 |  | 500 | 500
321114 Wood Preservation | 32 500 | 211 500 | 6.4 500 | 31.1 |  | 0.722 500 |  | 500 | 500
321211 Hardwood Veneer and Plywood Manufacturing | 66 750 | 408 750 | 6.3 500 | 30.4 |  | 0.683 500 |  | 500 | 500
321212 Softwood Veneer and Plywood Manufacturing | 244 1,500 | 1,313 1,500 |  | 55.7 | 2,684 1,500 | 0.747 500 |  | 1,250 | 500
321213 Engineered Wood Member (except Truss) Manufacturing | 58 500 | 383 750 |  | 64.0 | 892 500 | 0.802 1,250 |  | 750 | 500
321214 Truss Manufacturing | 45 500 | 214 500 | 2.6 500 | 14.3 |  | 0.643 500 |  | 500 | 500
321219 Reconstituted Wood Product Manufacturing | 115 1,000 | 384 750 |  | 27.7 |  | 0.682 500 |  | 750 | 500
321911 Wood Window and Door Manufacturing | 59 500 | 776 1,500 | 4.4 500 | 32.6 |  | 0.837 1,500 |  | 1,000 | 500
321912 Cut Stock, Resawing Lumber, and Planning | 30 500 | 139 500 | 3.5 500 | 16.3 |  | 0.681 500 |  | 500 | 500
321918 Other Millwork (including Flooring) | 21 500 | 156 500 | 1.6 500 | 18.6 |  | 0.725 500 |  | 500 | 500
321920 Wood Container and Pallet Manufacturing | 22 500 | 196 500 | 1.0 500 | 11.3 |  | 0.590 500 |  | 500 | 500
321991 Manufactured Home (Mobile Home) Manufacturing | 179 1,500 | 1,995 1,500 | 14.8 750 | 47.7 | 4,539 1,500 | 0.824 1,500 | 64.6 500 | 1,250 | 500
321992 Prefabricated Wood Building Manufacturing | 35 500 | 228 500 | 3.0 500 | 21.9 |  | 0.736 500 |  | 500 | 500
321999 All Other Miscellaneous Wood Product Manufacturing | 19 500 | 107 500 | 1.5 500 |  |  | 0.706 500 |  | 500 | 500
322110 Pulp Mills | 242 1,500 | 652 1,500 |  | 53.9 | 874 500 | 0.534 500 |  | 750 | 750
322121 Paper (except Newsprint) Mills | 559 1,500 | 2,866 1,500 | 155.0 1,500 | 49.8 | 7,418 1,500 | 0.824 1,500 | −1.6 750 | 1,250 | 750
322122 Newsprint Mills | 307 1,500 | 517 1,000 |  | 58.1 | 651 500 | 0.393 500 |  | 750 | 750
322130 Paperboard Mills | 476 1,500 | 1,367 1,500 | 193.7 1,500 | 45.8 | 3,598 1,500 | 0.685 500 |  | 1,250 | 750
322211 Corrugated and Solid Fiber Box Manufacturing | 118 1,250 | 2,033 1,500 | 15.5 750 | 40.7 | 8,642 1,500 | 0.852 1,500 |  | 1,250 | 500
322212 Folding Paperboard Box Manufacturing | 115 1,000 | 587 1,250 | 16.0 750 | 33.5 |  | 0.732 500 |  | 750 | 750
322219 Other Paperboard Container Manufacturing | 87 750 | 485 1,000 | 11.1 750 |  |  | 0.813 1,500 |  | 1,000 | 750
322220 Paper Bag and Coated and Treated Paper Manufacturing | 83 750 | 269 500 | 13.6 750 |  |  | 0.723 500 | 11.4 500 | 750 | 500
322230 Stationery Product Manufacturing | 68 750 | 438 750 | 6.8 500 |  |  | 0.801 1,250 |  | 750 | 500
322291 Sanitary Paper Product Manufacturing | 151 1,500 | 716 1,500 | 43.7 1,500 | 62.2 | 1,838 1,000 | 0.812 1,500 |  | 1,500 | 500
322299 All Other Converted Paper Product Manufacturing | 40 500 | 138 500 | 5.0 500 | 20.5 |  | 0.697 500 |  | 500 | 500
323111 Commercial Printing (except Screen and Books) | 20 500 | 266 500 | 1.6 500 |  |  | 0.780 750 |  | 500 | 500
323113 Commercial Screen Printing | 15 500 | 106 500 | 0.8 500 | 12.2 |  | 0.695 500 |  | 500 | 500
323117 Books Printing | 59 500 | 851 1,500 | 5.1 500 | 42.5 | 3,177 1,500 | 0.832 1,500 |  | 1,250 | 500
323120 Support Activities for Printing | 20 500 | 146 500 | 1.1 500 |  |  | 0.718 500 |  | 500 | 500
324110 Petroleum Refineries | 662 1,500 | 2,356 1,500 | 1,849.6 1,500 | 47.5 | 6,459 1,500 | 0.746 500 | 0.1 1,500 | 1,250 | 1,500
324121 Asphalt Paving Mixture and Block Manufacturing | 34 500 | 109 500 | 11.9 750 | 21.8 |  | 0.662 500 |  | 500 | 500
324122 Asphalt Shingle and Coating Materials Manufacturing | 92 1,000 | 480 1,000 |  | 67.0 | 1,755 1,000 | 0.769 500 |  | 750 | 750
324191 Petroleum Lubricating Oil and Grease Manufacturing | 29 500 | 96 500 | 12.6 750 | 42.5 | 348 500 | 0.814 1,500 |  | 750 | 500
324199 All Other Petroleum and Coal Products Manufacturing | 34 500 | 129 500 | 15.7 750 | 45.5 | 173 500 | 0.596 500 |  | 500 | 500
325110 Petrochemical Manufacturing | 243 1,500 | 577 1,250 |  | 79.6 | 1,362 500 | 0.696 500 |  | 750 | 1,000
325120 Industrial Gas Manufacturing | 115 1,000 | 599 1,250 |  | 67.6 | 1,335 500 | 0.832 1,500 | 7.9 1,000 | 1,000 | 1,000
325130 Synthetic Dye and Pigment Manufacturing | 81 750 | 324 500 |  |  |  | 0.742 500 |  | 750 | 1,000
325180 Other Basic Inorganic Chemical Manufacturing | 91 1,000 | 298 500 | 37.0 1,250 |  |  | 0.734 500 | 11.5 1,000 | 1,000 | 1,000
325193 Ethyl Alcohol Manufacturing | 45 500 | 156 500 | 72.7 1,500 | 25.3 |  | 0.485 500 |  | 750 | 1,000
325194 Cyclic Crude, Intermediate, and Gum and Wood Chemical Manufacturing | 77 750 | 323 500 | 86.9 1,500 |  |  | 0.803 1,250 |  | 1,250 | 750
325199 All Other Basic Organic Chemical Manufacturing | 125 1,250 | 474 1,000 | 98.1 1,500 | 32.0 |  | 0.773 750 |  | 1,250 | 1,000
325211 Plastics Material and Resin Manufacturing | 88 750 | 356 500 | 52.8 1,500 | 31.8 |  | 0.834 1,500 |  | 1,250 | 750
325212 Synthetic Rubber Manufacturing | 73 750 | 239 500 |  | 43.0 | 763 500 | 0.703 500 |  | 500 | 1,000
325220 Artificial and Synthetic Fibers and Filaments Manufacturing | 161 1,500 | 612 1,250 |  |  |  | 0.739 500 |  | 1,000 | 1,000
325311 Nitrogenous Fertilizer Manufacturing | 29 500 | 151 500 | 21.4 1,000 | 61.4 | 364 500 | 0.785 1,000 |  | 750 | 1,000
325312 Phosphatic Fertilizer Manufacturing | 123 1,250 | 643 1,500 |  | 82.9 | 1,093 500 | 0.725 500 |  | 750 | 500
325314 Fertilizer (Mixing Only) Manufacturing | 24 500 | 85 500 | 6.6 500 | 29.6 |  | 0.687 500 |  | 500 | 500
325320 Pesticide and Other Agricultural Chemical Manufacturing | 53 500 | 254 500 | 33.6 1,250 | 58.2 | 805 500 | 0.835 1,500 |  | 1,000 | 500
325411 Medicinal and Botanical Manufacturing | 64 750 | 382 750 | 16.3 750 | 53.5 | 1,730 1,000 | 0.828 1,500 | −26.8 1,000 | 1,000 | 750
325412 Pharmaceutical Preparation Manufacturing | 208 1,500 | 1,611 1,500 | 124.8 1,500 | 34.5 |  | 0.897 1,500 | −7.4 750 | 1,250 | 750
325413 In-Vitro Diagnostic Substance Manufacturing | 144 1,500 | 876 1,500 |  | 48.6 | 1,784 1,000 | 0.857 1,500 | 9.3 500 | 1,250 | 500

Table 3—Size Standards Supported by Each Factor for Each Industry (Number of Employees)
[Upper Value = Calculated Factor, Lower Value = Size Standard Supported]
NAICS code NAICS industry title | Simple average firm size (number of employees) | Weighted average firm size (number of employees) | Average assets size ($ million) | Four-firm ratio % | Four-firm average size (number of employees) | Gini coefficient | Federal contract factor (%) | Calculated size standard (number of employees) | Current size standard (number of employees)
(1) | (2) | (3) | (4) | (5) | (6) | (7) | (8) | (9) | (10)
325414 Biological Product (except Diagnostic) Manufacturing | 147 1,500 | 746 1,500 |  | 51.9 | 2,461 1,500 | 0.830 1,500 | 0.8 500 | 1,250 | 500
325510 Paint and Coating Manufacturing | 37 500 | 395 750 | 9.9 500 | 38.9 |  | 0.868 1,500 |  | 1,000 | 500
325520 Adhesive Manufacturing | 50 500 | 161 500 | 11.0 500 | 23.2 |  | 0.742 500 |  | 500 | 500
325611 Soap and Other Detergent Manufacturing | 35 500 | 465 1,000 | 18.9 750 | 67.1 | 1,619 1,000 | 0.859 1,500 | −13.1 1,000 | 1,000 | 750
325612 Polish and Other Sanitation Good Manufacturing | 36 500 | 231 500 | 8.7 500 | 60.2 | 1,235 500 | 0.850 1,500 |  | 750 | 500
325613 Surface Active Agent Manufacturing | 48 500 | 192 500 |  | 60.5 | 510 500 | 0.812 1,500 |  | 750 | 500
325620 Toilet Preparation Manufacturing | 74 750 | 576 1,250 | 26.9 1,000 | 49.9 | 2,568 1,500 | 0.879 1,500 |  | 1,250 | 500
325910 Printing Ink Manufacturing | 51 500 | 296 500 | 8.9 500 | 49.9 | 1,045 500 | 0.765 500 |  | 500 | 500
325920 Explosives Manufacturing | 117 1,250 | 402 750 |  | 52.2 | 757 500 | 0.650 500 | −20.2 1,000 | 750 | 750
325991 Custom Compounding of Purchased Resins | 43 500 | 178 500 | 9.5 500 | 27.6 |  | 0.749 500 |  | 500 | 500
325992 Photographic Film, Paper, Plate, and Chemical Manufacturing | 67 750 | 1,623 1,500 |  | 67.6 | 4,055 1,500 | 0.942 1,500 |  | 1,500 | 500
325998 All Other Miscellaneous Chemical Product and Preparation Manufacturing | 34 500 | 147 500 | 7.2 500 | 18.9 |  | 0.761 500 | −17.9 750 | 500 | 500
326111 Plastics Bag and Pouch Manufacturing | 93 1,000 | 404 750 | 12.6 750 | 26.5 |  | 0.762 500 |  | 750 | 500
326112 Plastics Packaging Film and Sheet (including Laminated) Manufacturing | 92 1,000 | 347 500 | 17.0 750 | 48.5 | 2,364 1,500 | 0.733 500 |  | 1,000 | 500
326113 Unlaminated Plastics Film and Sheet (except Packaging) Manufacturing | 73 750 | 267 500 | 12.2 750 | 19.3 |  | 0.746 500 |  | 750 | 500
326121 Unlaminated Plastics Profile Shape Manufacturing | 49 500 | 167 500 | 6.5 500 | 29.2 |  | 0.739 500 |  | 500 | 500
326122 Plastics Pipe and Pipe Fitting Manufacturing | 83 750 | 243 500 | 16.1 750 | 30.8 |  | 0.679 500 |  | 750 | 500
326130 Laminated Plastics Plate, Sheet (except Packaging), and Shape Manufacturing | 53 500 | 241 500 | 7.6 500 | 34.5 |  | 0.760 500 |  | 500 | 500
326140 Polystyrene Foam Product Manufacturing | 81 750 | 571 1,250 | 10.5 500 | 45.9 | 2,624 1,500 | 0.803 1,250 |  | 1,000 | 500
326150 Urethane and Other Foam Product (except Polystyrene) Manufacturing | 74 750 | 395 750 |  | 28.0 |  | 0.774 750 |  | 750 | 500
326160 Plastics Bottle Manufacturing | 186 1,500 | 883 1,500 | 33.4 1,250 | 46.3 | 3,257 1,500 | 0.796 1,000 |  | 1,250 | 500
326191 Plastics Plumbing Fixture Manufacturing | 53 500 | 399 750 | 4.2 500 | 32.2 |  | 0.796 1,000 |  | 750 | 500
326199 All Other Plastics Product Manufacturing | 67 750 | 366 750 | 6.7 500 |  |  | 0.780 750 |  | 750 | 750
326211 Tire Manufacturing (except Retreading) | 552 1,500 | 6,344 1,500 |  | 77.6 | 9,879 1,500 | 0.895 1,500 | 7.4 1,000 | 1,500 | 1,000
326212 Tire Retreading | 21 500 | 137 500 | 1.6 500 | 28.2 |  | 0.641 500 |  | 500 | 500
326220 Rubber and Plastics Hoses and Belting Manufacturing | 100 1,000 | 471 1,000 | 12.4 750 | 38.6 |  | 0.738 500 |  | 750 | 500
326291 Rubber Product Manufacturing for Mechanical Use | 86 750 | 412 750 | 8.9 500 | 25.5 |  | 0.777 750 |  | 750 | 500
326299 All Other Rubber Product Manufacturing | 52 500 | 160 500 | 6.4 500 | 26.9 |  | 0.744 500 |  | 500 | 500
327110 Pottery, Ceramics, and Plumbing Fixture Manufacturing | 22 500 | 263 500 |  |  |  | 0.846 1,500 |  | 1,000 | 750
327120 Clay Building Material and Refractories Manufacturing | 59 500 | 314 500 | 10.0 500 |  |  | 0.769 500 |  | 500 | 750
327211 Flat Glass Manufacturing | 519 1,500 | 1,086 1,500 | 78.3 1,500 | 68.9 | 1,586 750 | 0.571 500 |  | 1,000 | 1,000
327212 Other Pressed and Blown Glass and Glassware Manufacturing | 48 500 | 656 1,500 |  | 34.4 |  | 0.895 1,500 |  | 1,250 | 750
327213 Glass Container Manufacturing | 641 1,500 | 2,038 1,500 |  | 87.1 | 3,040 1,500 | 0.709 500 |  | 1,250 | 750
327215 Glass Product Manufacturing Made of Purchased Glass | 41 500 | 584 1,250 | 4.1 500 | 29.8 |  | 0.870 1,500 |  | 1,000 | 500
327310 Cement Manufacturing | 120 1,250 | 626 1,500 |  | 40.8 | 1,721 1,000 | 0.770 500 |  | 1,000 | 750
327320 Ready-Mix Concrete Manufacturing | 44 500 | 368 750 | 8.9 500 | 22.6 |  | 0.764 500 |  | 500 | 500
327331 Concrete Block and Brick Manufacturing | 42 500 | 236 500 | 9.2 500 | 32.3 |  | 0.694 500 |  | 500 | 500
327332 Concrete Pipe Manufacturing | 69 750 | 460 1,000 | 13.2 750 | 54.0 | 1,328 500 | 0.745 500 |  | 750 | 500
327390 Other Concrete Product Manufacturing | 35 500 | 213 500 | 3.6 500 | 19.2 |  | 0.760 500 |  | 500 | 500
327410 Lime Manufacturing | 108 1,000 | 507 1,000 |  | 69.0 | 673 500 | 0.624 500 |  | 750 | 500
327420 Gypsum Product Manufacturing | 68 750 | 1,272 1,500 |  | 73.6 | 2,108 1,500 | 0.901 1,500 |  | 1,500 | 1,000
327910 Abrasive Product Manufacturing | 49 500 | 424 750 | 8.7 500 | 58.4 | 1,348 500 | 0.824 1,500 |  | 750 | 500
327991 Cut Stone and Stone Product Manufacturing | 16 500 | 57 500 | 1.1 500 | 6.9 |  | 0.525 500 |  | 500 | 500
327992 Ground or Treated Mineral and Earth Manufacturing | 41 500 | 101 500 |  | 43.7 | 374 500 | 0.698 500 |  | 500 | 500
327993 Mineral Wool Manufacturing | 96 1,000 | 889 1,500 |  | 55.3 | 2,210 1,500 | 0.841 1,500 |  | 1,500 | 750
327999 All Other Miscellaneous Nonmetallic Mineral Product Manufacturing | 29 500 | 271 500 | 6.2 500 | 40.8 | 898 500 | 0.743 500 |  | 500 | 500
331110 Iron and Steel Mills and Ferroalloy Manufacturing | 425 1,500 | 2,108 1,500 | 199.2 1,500 |  |  | 0.798 1,250 |  | 1,500 | 1,000
331210 Iron and Steel Pipe and Tube Manufacturing from Purchased Steel | 162 1,500 | 299 500 | 36.5 1,250 | 34.2 |  | 0.536 500 |  | 1,000 | 1,000
331221 Rolled Steel Shape Manufacturing | 87 750 | 165 500 | 26.5 1,000 | 30.8 |  | 0.545 500 |  | 750 | 1,000
331222 Steel Wire Drawing | 70 750 | 246 500 | 11.4 750 | 25.2 |  | 0.710 500 |  | 750 | 1,000
331313 Alumina Refining and Primary Aluminum Production | 234 1,500 | 656 1,500 |  |  |  | 0.686 500 |  | 1,000 | 1,000
331314 Secondary Smelting and Alloying of Aluminum | 69 750 | 306 500 | 24.1 1,000 | 54.8 | 776 500 | 0.716 500 |  | 750 | 750
331315 Aluminum Sheet, Plate, and Foil Manufacturing | 197 1,500 | 1,462 1,500 |  | 70.5 | 2,445 1,500 | 0.866 1,500 | 3.6 750 | 1,250 | 750
331318 Other Aluminum Rolling, Drawing, and Extruding | 120 1,250 | 378 750 | 18.7 750 |  |  | 0.700 500 |  | 750 | 750
331410 Nonferrous Metal (except Aluminum) Smelting and Refining | 61 500 | 259 500 |  |  |  | 0.823 1,500 |  | 1,000 | 1,000
331420 Copper Rolling, Drawing, Extruding, and Alloying | 132 1,250 | 408 750 | 55.1 1,500 |  |  | 0.751 500 | −16.6 1,000 | 1,000 | 1,000
331491 Nonferrous Metal (except Copper and Aluminum) Rolling, Drawing, and Extruding | 65 750 | 281 500 | 17.8 750 | 48.5 | 1,545 750 | 0.784 750 | −11.0 1,000 | 750 | 750
331492 Secondary Smelting, Refining, and Alloying of Nonferrous Metal (except Copper and Aluminum) | 54 500 | 153 500 | 14.0 750 | 28.2 |  | 0.617 500 |  | 500 | 750
331511 Iron Foundries | 128 1,250 | 675 1,500 | 16.3 750 | 29.4 |  | 0.768 500 |  | 1,000 | 500
331512 Steel Investment Foundries | 145 1,500 | 631 1,500 |  | 61.9 | 2,055 1,250 | 0.752 500 |  | 1,000 | 500
331513 Steel Foundries (except Investment) | 86 750 | 343 500 | 9.0 500 | 30.5 |  | 0.742 500 |  | 500 | 500
331523 Nonferrous Metal Die-Casting Foundries | 84 750 | 335 500 | 9.9 500 |  |  | 0.744 500 |  | 500 | 500
331524 Aluminum Foundries (except Die-Casting) | 47 500 | 242 500 | 4.2 500 | 27.5 |  | 0.778 750 |  | 500 | 500
331529 Other Nonferrous Metal Foundries (except Die-Casting) | 35 500 | 137 500 | 3.5 500 |  |  | 0.688 500 |  | 500 | 500
332111 Iron and Steel Forging | 64 750 | 230 500 | 11.3 750 | 20.8 |  | 0.719 500 |  | 750 | 500
332112 Nonferrous Forging | 128 1,250 | 421 750 |  | 51.5 | 687 500 | 0.672 500 |  | 750 | 500
332114 Custom Roll Forming | 51 500 | 152 500 |  | 36.9 |  | 0.732 500 |  | 500 | 500
332117 Powder Metallurgy Part Manufacturing | 76 750 | 204 500 | 8.4 500 | 37.5 |  | 0.656 500 |  | 500 | 500
332119 Metal Crown, Closure, and Other Metal Stamping (except Automotive) | 41 500 | 131 500 | 4.3 500 |  |  | 0.676 500 |  | 500 | 500
332215 Metal Kitchen Cookware, Utensil, Cutlery, and Flatware (except Precious) Manufacturing | 44 500 | 221 500 | 9.0 500 |  |  | 0.806 1,250 |  | 750 | 500
332216 Saw Blade and Handtool Manufacturing | 35 500 | 240 500 | 4.2 500 |  |  | 0.791 1,000 | 14.3 500 | 750 | 500
332311 Prefabricated Metal Building and Component Manufacturing | 42 500 | 386 750 | 4.5 500 | 27.6 |  | 0.787 1,000 | 3.5 500 | 750 | 500
332312 Fabricated Structural Metal Manufacturing | 34 500 | 196 500 | 4.5 500 | 10.4 |  | 0.726 500 | −21.9 750 | 500 | 500
332313 Plate Work Manufacturing | 28 500 | 92 500 | 2.8 500 | 8.6 |  | 0.640 500 | −68.5 1,000 | 750 | 500
332321 Metal Window and Door Manufacturing | 65 750 | 385 750 | 5.3 500 | 12.7 |  | 0.788 1,000 |  | 750 | 500
332322 Sheet Metal Work Manufacturing | 29 500 | 135 500 | 2.4 500 | 7.4 |  | 0.693 500 |  | 500 | 500
332323 Ornamental and Architectural Metal Work Manufacturing | 17 500 | 127 500 | 1.5 500 | 15.9 |  | 0.707 500 |  | 500 | 500
332410 Power Boiler and Heat Exchanger Manufacturing | 84 750 | 296 500 |  | 27.2 |  | 0.665 500 | −43.5 1,000 | 750 | 500
332420 Metal Tank (Heavy Gauge) Manufacturing | 60 500 | 228 500 |  | 17.4 |  | 0.700 500 | −42.8 1,000 | 750 | 500
332431 Metal Can Manufacturing | 281 1,500 | 1,425 1,500 |  | 76.5 | 3,349 1,500 | 0.824 1,500 |  | 1,500 | 1,000
332439 Other Metal Container Manufacturing | 40 500 | 177 500 | 5.2 500 | 28.8 |  | 0.717 500 | −10.4 750 | 500 | 500
332510 Hardware Manufacturing | 56 500 | 400 750 | 7.6 500 | 24.1 |  | 0.813 1,500 | 14.0 500 | 750 | 500
332613 Spring Manufacturing | 49 500 | 271 500 | 5.6 500 |  |  | 0.749 500 |  | 500 | 500
332618 Other Fabricated Wire Product Manufacturing | 30 500 | 119 500 | 2.9 500 | 9.6 |  | 0.700 500 |  | 500 | 500
332710 Machine Shops | 13 500 | 50 500 | 0.9 500 | 1.7 |  | 0.590 500 |  | 500 | 500
332721 Precision Turned Product Manufacturing | 30 500 | 85 500 | 2.5 500 | 4.3 |  | 0.601 500 |  | 500 | 500
332722 Bolt, Nut, Screw, Rivet, and Washer Manufacturing | 54 500 | 302 500 | 7.0 500 | 21.1 |  | 0.732 500 | −20.8 750 | 500 | 500
332811 Metal Heat Treating | 36 500 | 149 500 | 4.2 500 | 26.2 |  | 0.692 500 |  | 500 | 750
332812 Metal Coating, Engraving (except Jewelry and Silverware), and Allied Services to Manufacturers | 24 500 | 102 500 | 3.0 500 | 22.0 |  | 0.768 500 |  | 500 | 500
332813 Electroplating, Plating, Polishing, Anodizing, and Coloring | 23 500 | 70 500 | 1.4 500 | 10.5 |  | 0.624 500 |  | 500 | 500
332911 Industrial Valve Manufacturing | 100 1,000 | 462 1,000 | 14.2 750 | 27.1 |  | 0.781 750 |  | 750 | 500
332912 Fluid Power Valve and Hose Fitting Manufacturing | 111 1,000 | 654 1,500 | 16.1 750 | 38.9 |  | 0.798 1,250 |  | 1,000 | 500
332913 Plumbing Fixture Fitting and Trim Manufacturing | 92 1,000 | 627 1,500 | 19.1 750 | 58.1 | 1,171 500 | 0.820 1,500 |  | 1,000 | 500
332919 Other Metal Valve and Pipe Fitting Manufacturing | 71 750 | 211 500 | 11.5 750 | 17.9 |  | 0.668 500 |  | 750 | 500
332991 Ball and Roller Bearing Manufacturing | 234 1,500 | 994 1,500 | 40.7 1,500 | 58.9 | 3,423 1,500 | 0.800 1,250 | 30.8 750 | 1,250 | 750
332992 Small Arms Ammunition Manufacturing | 93 1,000 | 935 1,500 |  | 79.3 | 1,886 1,250 | 0.878 1,500 | −11.6 1,250 | 1,250 | 1,000
332993 Ammunition (except Small Arms) Manufacturing | 151 1,500 | 585 1,250 |  | 80.2 | 795 500 | 0.808 1,250 | −17.6 1,500 | 1,250 | 1,500
332994 Small Arms, Ordnance, and Ordnance Accessories Manufacturing | 54 500 | 518 1,000 |  |  |  | 0.855 1,500 | −17.7 1,000 | 1,000 | 1,000
332996 Fabricated Pipe and Pipe Fitting Manufacturing | 44 500 | 164 500 | 4.9 500 | 24.1 |  | 0.715 500 |  | 500 | 500
332999 All Other Miscellaneous Fabricated Metal Product Manufacturing | 22 500 | 88 500 | 2.3 500 |  |  | 0.674 500 | −34.1 1,000 | 750 | 750
333111 Farm Machinery and Equipment Manufacturing | 50 500 | 681 1,500 | 11.1 750 | 59.0 | 4,290 1,500 | 0.899 1,500 |  | 1,250 | 500
333112 Lawn and Garden Tractor and Home Lawn and Garden Equipment Manufacturing | 142 1,500 | 1,010 1,500 | 33.5 1,250 | 71.1 | 3,059 1,500 | 0.860 1,500 |  | 1,500 | 500
333120 Construction Machinery Manufacturing | 99 1,000 | 1,086 1,500 | 36.6 1,250 | 53.6 | 5,741 1,500 | 0.890 1,500 | −9.5 750 | 1,250 | 750
333131 Mining Machinery and Equipment Manufacturing | 51 500 | 310 500 | 9.1 500 | 38.0 |  | 0.747 500 |  | 500 | 500
333132 Oil and Gas Field Machinery and Equipment Manufacturing | 86 750 | 709 1,500 | 21.2 1,000 | 32.4 |  | 0.837 1,500 |  | 1,250 | 500
333241 Food Product Machinery Manufacturing | 36 500 | 127 500 | 5.1 500 |  |  | 0.681 500 |  | 500 | 500
333242 Semiconductor Machinery Manufacturing | 122 1,250 | 871 1,500 |  |  |  | 0.861 1,500 |  | 1,500 | 500
333243 Sawmill, Woodworking, and Paper Machinery Manufacturing | 31 500 | 204 500 | 4.3 500 |  |  | 0.721 500 |  | 500 | 500
333244 Printing Machinery and Equipment Manufacturing | 32 500 | 177 500 | 4.0 500 |  |  | 0.708 500 | −55.6 1,000 | 750 | 500
333249 Other Industrial Machinery Manufacturing | 30 500 | 115 500 | 3.9 500 |  |  | 0.704 500 | −20.7 750 | 500 | 500
333314 Optical Instrument and Lens Manufacturing | 42 500 | 204 500 | 5.5 500 | 26.9 |  | 0.761 500 | −11.4 750 | 500 | 500
333316 Photographic and Photocopying Equipment Manufacturing | 43 500 | 300 500 | 7.9 500 | 29.9 |  | 0.820 1,500 | −5.8 1,000 | 1,000 | 1,000
333318 Other Commercial and Service Industry Machinery Manufacturing | 46 500 | 274 500 |  |  |  | 0.781 750 | −22.2 750 | 750 | 1,000
333413 Industrial and Commercial Fan and Blower and Air Purification Equipment Manufacturing | 61 500 | 244 500 | 5.9 500 |  |  | 0.714 500 |  | 500 | 500
333414 Heating Equipment (except Warm Air Furnaces) Manufacturing | 49 500 | 202 500 | 6.4 500 | 21.1 |  | 0.732 500 |  | 500 | 500
333415 Air-Conditioning and Warm Air Heating Equipment and Commercial and Industrial Refrigeration Equipment Manufacturing | 139 1,250 | 1,352 1,500 | 18.7 750 | 39.3 |  | 0.868 1,500 | 28.5 750 | 1,250 | 750
333511 Industrial Mold Manufacturing | 21 500 | 63 500 | 1.6 500 | 4.6 |  | 0.586 500 |  | 500 | 500
333514 Special Die and Tool, Die Set, Jig, and Fixture Manufacturing | 17 500 | 67 500 | 1.5 500 | 11.9 |  | 0.647 500 |  | 500 | 500
333515 Cutting Tool and Machine Tool Accessory Manufacturing | 20 500 | 143 500 | 1.9 500 | 19.2 |  | 0.696 500 |  | 500 | 500
333517 Machine Tool Manufacturing | 52 500 | 230 500 | 7.2 500 |  |  | 0.695 500 | 24.9 500 | 500 | 500
333519 Rolling Mill and Other Metalworking Machinery Manufacturing | 32 500 | 101 500 | 4.4 500 |  |  | 0.638 500 |  | 500 | 500
333611 Turbine and Turbine Generator Set Units Manufacturing | 159 1,500 | 920 1,500 |  | 68.4 | 3,126 1,500 | 0.823 1,500 | −6.9 1,000 | 1,500 | 1,000
333612 Speed Changer, Industrial High-Speed Drive, and Gear Manufacturing | 68 750 | 273 500 | 9.6 500 | 29.5 |  | 0.725 500 | −30.7 1,000 | 750 | 500
333613 Mechanical Power Transmission Equipment Manufacturing | 79 750 | 330 500 | 12.0 750 | 26.9 |  | 0.716 500 | 22.8 500 | 750 | 500
333618 Other Engine Equipment Manufacturing | 169 1,500 | 1,217 1,500 |  | 55.9 | 4,909 1,500 | 0.869 1,500 | 33.1 1,000 | 1,500 | 1,000
333911 Pump and Pumping Equipment Manufacturing | 76 750 | 382 750 | 14.2 750 | 30.5 |  | 0.797 1,000 | 14.7 500 | 750 | 500
333912 Air and Gas Compressor Manufacturing | 84 750 | 419 750 | 19.5 750 | 26.8 |  | 0.808 1,250 |  | 1,000 | 500
333913 Measuring and Dispensing Pump Manufacturing | 121 1,250 | 404 750 |  | 72.7 | 653 500 | 0.745 500 |  | 750 | 500
333921 Elevator and Moving Stairway Manufacturing | 55 500 | 440 750 |  | 56.1 | 1,028 500 | 0.813 1,500 |  | 1,000 | 500
333922 Conveyor and Conveying Equipment Manufacturing | 44 500 | 167 500 | 5.1 500 | 17.0 |  | 0.672 500 |  | 500 | 500
333923 Overhead Traveling Crane, Hoist, and Monorail System Manufacturing | 81 750 | 768 1,500 | 13.0 750 | 62.5 | 2,738 1,500 | 0.852 1,500 |  | 1,250 | 500
333924 Industrial Truck, Tractor, Trailer, and Stacker Machinery Manufacturing | 70 750 | 411 750 | 12.1 750 | 40.2 | 1,743 1,000 | 0.789 1,000 | −9.3 750 | 750 | 750
333991 Power-Driven Handtool Manufacturing | 56 500 | 431 750 |  | 45.2 | 674 500 | 0.771 500 |  | 500 | 500
333992 Welding and Soldering Equipment Manufacturing | 55 500 | 1,042 1,500 | 11.4 750 | 55.7 | 1,897 1,250 | 0.855 1,500 |  | 1,250 | 500
333993 Packaging Machinery Manufacturing | 36 500 | 135 500 | 4.4 500 | 24.0 |  | 0.696 500 |  | 500 | 500
333994 Industrial Process Furnace and Oven Manufacturing | 36 500 | 179 500 | 3.9 500 | 21.8 |  | 0.659 500 |  | 500 | 500
333995 Fluid Power Cylinder and Actuator Manufacturing | 74 750 | 341 500 |  | 43.3 | 1,582 750 | 0.788 1,000 |  | 750 | 500
333996 Fluid Power Pump and Motor Manufacturing | 101 1,000 | 715 1,500 |  | 69.1 | 2,002 1,250 | 0.825 1,500 |  | 1,250 | 500
333997 Scale and Balance Manufacturing | 41 500 | 264 500 |  | 51.9 | 408 500 | 0.735 500 |  | 500 | 500
333999 All Other Miscellaneous General Purpose Machinery Manufacturing | 29 500 | 144 500 | 3.7 500 | 15.9 |  | 0.723 500 | −11.9 750 | 500 | 500
334111 Electronic Computer Manufacturing | 88 750 | 1,322 1,500 | 46.4 1,500 | 86.9 | 6,047 1,500 | 0.946 1,500 | 21.7 1,000 | 1,250 | 1,000
334112 Computer Storage Device Manufacturing | 143 1,500 | 1,450 1,500 |  | 75.6 | 2,068 1,250 | 0.883 1,500 | −3.4 1,000 | 1,250 | 1,000
334118 Computer Terminal and Other Computer Peripheral Equipment Manufacturing | 52 500 | 376 750 | 9.2 500 | 31.0 |  | 0.818 1,500 | −6.4 1,000 | 1,000 | 1,000
334210 Telephone Apparatus Manufacturing | 95 1,000 | 462 1,000 | 29.9 1,250 | 60.5 | 2,244 1,500 | 0.853 1,500 | 8.3 1,000 | 1,250 | 1,000
334220 Radio and Television Broadcasting and Wireless Communications Equipment Manufacturing | 113 1,000 | 1,170 1,500 | 30.2 1,250 | 45.2 | 7,609 1,500 | 0.889 1,500 | −5.5 750 | 1,250 | 750
334290 Other Communications Equipment Manufacturing | 41 500 | 273 500 | 6.0 500 | 43.6 | 1,339 500 | 0.806 1,250 | −26.2 1,000 | 750 | 750
334310 Audio and Video Equipment Manufacturing | 34 500 | 377 750 | 7.5 500 | 40.5 | 953 500 | 0.763 500 | 30.9 750 | 500 | 750
334412 Bare Printed Circuit Board Manufacturing | 57 500 | 385 750 | 4.5 500 | 36.7 |  | 0.777 750 | −34.6 1,000 | 750 | 500
334413 Semiconductor and Related Device Manufacturing | 168 1,500 | 1,372 1,500 | 55.4 1,500 | 55.7 | 11,153 1,500 | 0.899 1,500 | 45.9 500 | 1,250 | 500
334416 Capacitor, Resistor, Coil, Transformer, and Other Inductor Manufacturing | 55 500 | 244 500 | 4.0 500 |  |  | 0.710 500 |  | 500 | 500
334417 Electronic Connector Manufacturing | 119 1,250 | 485 1,000 | 13.0 750 | 48.8 | 2,190 1,500 | 0.764 500 | −13.3 750 | 1,000 | 500
334418 Printed Circuit Assembly (Electronic Assembly) Manufacturing | 84 750 | 436 750 |  | 33.3 |  | 0.801 1,250 | −7.7 500 | 750 | 500
334419 Other Electronic Component Manufacturing | 46 500 | 211 500 | 4.4 500 |  |  | 0.744 500 | −47.4 1,250 | 750 | 750
334510 Electromedical and Electrotherapeutic Apparatus Manufacturing | 119 1,250 | 909 1,500 | 26.6 1,000 | 35.0 |  | 0.863 1,500 | −3.7 500 | 1,250 | 500
334511 Search, Detection, Navigation, Guidance, Aeronautical, and Nautical System and Instrument Manufacturing | 300 1,500 | 5,370 1,500 | 61.6 1,500 | 47.0 | 18,216 1,500 | 0.919 1,500 | −1.5 750 | 1,250 | 750
334512 Automatic Environmental Control Manufacturing for Residential, Commercial, and Appliance Use | 46 500 | 288 500 | 4.4 500 | 38.6 |  | 0.779 750 |  | 500 | 500
334513 Instruments and Related Products Manufacturing for Measuring, Displaying, and Controlling Industrial Process Variables | 46 500 | 287 500 | 6.8 500 | 30.4 |  | 0.807 1,250 | 7.9 500 | 750 | 500
334514 Totalizing Fluid Meter and Counting Device Manufacturing | 67 750 | 324 500 | 14.2 750 | 44.1 | 1,006 500 | 0.801 1,250 |  | 750 | 500
334515 Instrument Manufacturing for Measuring and Testing Electricity and Electrical Signals | 53 500 | 312 500 | 9.0 500 | 37.9 |  | 0.820 1,500 | 15.1 500 | 750 | 500
334516 Analytical Laboratory Instrument Manufacturing | 66 750 | 396 750 | 13.8 750 | 32.3 |  | 0.835 1,500 | 6.0 500 | 1,000 | 500
334517 Irradiation Apparatus Manufacturing | 76 750 | 588 1,250 |  | 58.2 | 1,398 750 | 0.845 1,500 | 5.9 500 | 1,000 | 500
334519 Other Measuring and Controlling Device Manufacturing | 37 500 | 183 500 | 6.4 500 |  |  | 0.766 500 | −1.5 500 | 500 | 500
334613 Blank Magnetic and Optical Recording Media Manufacturing | 54 500 | 1,092 1,500 |  | 84.7 | 1,121 500 | 0.889 1,500 |  | 1,000 | 1,000
334614 Software and Other Prerecorded Compact Disc, Tape, and Record Reproducing | 34 500 | 519 1,000 |  |  |  | 0.819 1,500 |  | 1,250 | 750
335110 Electric Lamp Bulb and Part Manufacturing | 136 1,250 | 1,057 1,500 |  | 75.4 | 1,497 750 | 0.848 1,500 |  | 1,250 | 1,000
335121 Residential Electric Lighting Fixture Manufacturing | 30 500 | 320 500 | 3.5 500 | 46.1 | 847 500 | 0.814 1,500 |  | 750 | 500
335122 Commercial, Industrial, and Institutional Electric Lighting Fixture Manufacturing | 56 500 | 373 750 | 5.9 500 | 32.0 |  | 0.763 500 |  | 500 | 500
335129 Other Lighting Equipment Manufacturing | 54 500 | 243 500 | 7.1 500 | 21.6 |  | 0.749 500 |  | 500 | 500
335210 Small Electrical Appliance Manufacturing | 104 1,000 | 579 1,250 |  |  |  | 0.816 1,500 |  | 1,500 | 750
335221 Household Cooking Appliance Manufacturing | 145 1,500 | 1,611 1,500 |  | 72.3 | 2,734 1,500 | 0.870 1,500 |  | 1,500 | 750
335222 Household Refrigerator and Home Freezer Manufacturing | 735 1,500 | 2,956 1,500 |  | 91.6 | 3,010 1,500 | 0.764 500 |  | 1,250 | 1,000
335224 Household Laundry Equipment Manufacturing | 746 1,500 | 3,165 1,500 |  | 98.3 | 2,549 1,500 | 0.768 500 |  | 1,250 | 1,000
335228 Other Major Household Appliance Manufacturing | 310 1,500 | 1,116 1,500 |  | 63.6 | 1,614 750 | 0.744 500 |  | 1,000 | 500
335311 Power, Distribution, and Specialty Transformer Manufacturing | 88 750 | 493 1,000 | 13.7 750 | 39.9 |  | 0.771 500 | 22.0 750 | 750 | 750
335312 Motor and Generator Manufacturing | 98 1,000 | 587 1,250 | 15.0 750 | 34.3 |  | 0.837 1,500 | −7.3 1,000 | 1,250 | 1,000
335313 Switchgear and Switchboard Apparatus Manufacturing | 87 750 | 840 1,500 | 11.6 750 | 47.0 | 3,373 1,500 | 0.862 1,500 | 12.4 750 | 1,250 | 750
335314 Relay and Industrial Control Manufacturing | 41 500 | 267 500 | 5.5 500 | 31.1 |  | 0.805 1,250 |  | 750 | 750
335911 Storage Battery Manufacturing | 240 1,500 | 1,819 1,500 |  | 65.7 | 3,305 1,500 | 0.850 1,500 | 25.7 500 | 1,250 | 500
335912 Primary Battery Manufacturing | 134 1,250 | 572 1,250 |  | 88.0 | 837 500 | 0.773 750 |  | 750 | 1,000
335921 Fiber Optic Cable Manufacturing | 65 750 | 294 500 |  | 64.3 | 569 500 | 0.710 500 |  | 500 | 1,000
335929 Other Communication and Energy Wire Manufacturing | 109 1,000 | 398 750 |  | 36.6 |  | 0.749 500 | −19.8 1,250 | 1,000 | 1,000
335931 Current-Carrying Wiring Device Manufacturing | 79 750 | 303 500 | 7.5 500 | 20.4 |  | 0.742 500 |  | 500 | 500
335932 Noncurrent-Carrying Wiring Device Manufacturing | 119 1,250 | 537 1,250 |  | 37.6 |  | 0.783 750 |  | 1,000 | 500
335991 Carbon and Graphite Product Manufacturing | 71 750 | 335 500 |  | 41.2 | 660 500 | 0.782 750 |  | 750 | 750
335999 All Other Miscellaneous Electrical Equipment and Component Manufacturing | 45 500 | 188 500 | 5.5 500 | 19.6 |  | 0.763 500 | −18.6 750 | 500 | 500
336111 Automobile Manufacturing | 376 1,500 | 6,539 1,500 | 286.4 1,500 | 67.6 | 9,705 1,500 | 0.945 1,500 | 2.2 1,000 | 1,500 | 1,000
336112 Light Truck and Utility Vehicle Manufacturing | 1,285 1,500 | 8,271 1,500 |  | 84.3 | 16,270 1,500 | 0.857 1,500 | 4.7 1,000 | 1,500 | 1,000
336120 Heavy Duty Truck Manufacturing | 360 1,500 | 2,029 1,500 |  | 65.5 | 4,526 1,500 | 0.822 1,500 | 14.0 1,000 | 1,500 | 1,000
336211 Motor Vehicle Body Manufacturing | 66 750 | 411 750 | 7.5 500 | 23.6 |  | 0.787 1,000 | −14.9 1,250 | 1,000 | 1,000
336212 Truck Trailer Manufacturing | 78 750 | 688 1,500 | 7.8 500 | 42.4 | 2,364 1,500 | 0.806 1,250 | −32.9 1,000 | 1,000 | 500
336213 Motor Home Manufacturing | 247 1,500 | 1,226 1,500 |  | 52.7 | 1,958 1,250 | 0.804 1,250 |  | 1,250 | 1,000
336214 Travel Trailer and Camper Manufacturing | 65 750 | 650 1,500 | 4.5 500 | 40.4 | 3,444 1,500 | 0.810 1,250 | −37.4 1,000 | 1,000 | 500
336310 Motor Vehicle Gasoline Engine and Engine Parts Manufacturing | 67 750 | 809 1,500 |  |  |  | 0.914 1,500 | 45.5 500 | 1,000 | 750
336320 Motor Vehicle Electrical and Electronic Equipment Manufacturing | 97 1,000 | 707 1,500 | 13.0 750 |  |  | 0.852 1,500 | 11.3 750 | 1,000 | 750
336330 Motor Vehicle Steering and Suspension Components (except Spring) Manufacturing | 162 1,500 | 641 1,500 |  | 32.7 |  | 0.771 500 |  | 1,000 | 750
336340 Motor Vehicle Brake System Manufacturing | 167 1,500 | 671 1,500 |  | 42.2 | 1,994 1,250 | 0.786 1,000 |  | 1,250 | 750
336350 Motor Vehicle Transmission and Power Train Parts Manufacturing | 172 1,500 | 1,572 1,500 |  | 36.7 |  | 0.892 1,500 |  | 1,500 | 750
336360 Motor Vehicle Seating and Interior Trim Manufacturing | 170 1,500 | 1,367 1,500 | 26.7 1,000 | 56.9 | 5,459 1,500 | 0.860 1,500 |  | 1,500 | 500
336370 Motor Vehicle Metal Stamping | 148 1,500 | 718 1,500 | 24.3 1,000 | 33.2 |  | 0.756 500 |  | 1,000 | 500
336390 Other Motor Vehicle Parts Manufacturing | 111 1,000 | 542 1,250 | 18.8 750 |  |  | 0.798 1,250 | 3.2 750 | 1,000 | 750
336411 Aircraft Manufacturing | 815 1,500 | 7,782 1,500 |  | 81.3 | 33,731 1,500 | 0.901 1,500 | 0.1 1,500 | 1,500 | 1,500
336412 Aircraft Engine and Engine Parts Manufacturing | 230 1,500 | 1,861 1,500 | 73.5 1,500 | 74.3 | 10,158 1,500 | 0.888 1,500 | −7.3 1,000 | 1,500 | 1,000
336413 Other Aircraft Parts and Auxiliary Equipment Manufacturing | 146 1,500 | 1,768 1,500 | 26.1 1,000 | 47.3 | 9,325 1,500 | 0.884 1,500 | −6.3 1,000 | 1,250 | 1,000
336414 Guided Missile and Space Vehicle Manufacturing | 3,525 1,500 | 7,103 1,500 |  | 94.8 | 11,710 1,500 | 0.522 500 | −0.8 1,000 | 1,250 | 1,000
336415 Guided Missile and Space Vehicle Propulsion Unit and Propulsion Unit Parts Manufacturing | 938 1,500 | 2,829 1,500 |  | 97.1 | 3,871 1,500 | 0.682 500 | 0.5 1,000 | 1,250 | 1,000
336419 Other Guided Missile and Space Vehicle Parts and Auxiliary Equipment Manufacturing | 158 1,500 | 602 1,250 |  | 66.5 | 1,250 500 | 0.718 500 | −19.7 1,250 | 1,000 | 1,000
336510 Railroad Rolling Stock Manufacturing | 164 1,500 | 935 1,500 | 53.0 1,500 | 49.4 | 2,757 1,500 | 0.814 1,500 |  | 1,500 | 1,000
336611 Ship Building and Repairing | 162 1,500 | 4,868 1,500 | 16.5 750 | 60.5 | 14,610 1,500 | 0.899 1,500 | −17.1 1,250 | 1,250 | 1,000
336612 Boat Building | 51 500 | 1,271 1,500 | 6.2 500 | 35.0 |  | 0.857 1,500 | 22.3 500 | 1,000 | 500
336991 Motorcycle, Bicycle, and Parts Manufacturing | 30 500 | 1,380 1,500 | 6.9 500 | 72.0 | 1,705 1,000 | 0.879 1,500 |  | 1,000 | 500
336992 Military Armored Vehicle, Tank, and Tank Component Manufacturing | 264 1,500 | 1,538 1,500 |  | 81.8 | 2,674 1,500 | 0.857 1,500 | −5.5 1,000 | 1,500 | 1,000
336999 All Other Transportation Equipment Manufacturing | 39 500 | 730 1,500 | 7.7 500 | 57.2 | 1,657 1,000 | 0.904 1,500 | 51.2 500 | 1,000 | 500
337110 Wood Kitchen Cabinet and Countertop Manufacturing | 15 500 | 899 1,500 | 0.8 500 | 30.4 |  | 0.752 500 |  | 750 | 500
337121 Upholstered Household Furniture Manufacturing | 52 500 | 1,121 1,500 | 2.7 500 | 34.0 |  | 0.856 1,500 |  | 1,000 | 500
337122 Nonupholstered Wood Household Furniture Manufacturing | 18 500 | 420 750 | 1.1 500 | 30.1 |  | 0.783 750 | 14.2 500 | 750 | 500
337124 Metal Household Furniture Manufacturing | 37 500 | 349 500 |  | 44.4 | 1,047 500 | 0.812 1,500 |  | 750 | 500
337125 Household Furniture (except Wood and Metal) Manufacturing | 21 500 | 439 750 | 2.6 500 | 67.0 | 455 500 | 0.867 1,500 |  | 750 | 500
337127 Institutional Furniture Manufacturing | 46 500 | 168 500 | 3.5 500 | 13.1 |  | 0.697 500 |  | 500 | 500
337211 Wood Office Furniture Manufacturing | 44 500 | 445 750 | 2.8 500 | 39.8 |  | 0.813 1,500 |  | 1,000 | 500
337212 Custom Architectural Woodwork and Millwork Manufacturing | 22 500 | 61 500 | 1.1 500 | 5.1 |  | 0.575 500 |  | 500 | 500
337214 Office Furniture (except Wood) Manufacturing | 111 1,000 | 1,302 1,500 | 14.1 750 | 64.7 | 3,581 1,500 | 0.898 1,500 | 8.5 500 | 1,000 | 500
337215 Showcase, Partition, Shelving, and Locker Manufacturing | 34 500 | 183 500 | 2.6 500 | 15.7 |  | 0.756 500 | 20.8 500 | 500 | 500
337910 Mattress Manufacturing | 50 500 | 636 1,500 | 5.7 500 | 51.3 | 2,026 1,250 | 0.847 1,500 |  | 1,000 | 500
337920 Blind and Shade Manufacturing | 43 500 | 666 1,500 | 2.2 500 | 38.5 |  | 0.815 1,500 |  | 1,000 | 500
339112 Surgical and Medical Instrument Manufacturing | 92 1,000 | 787 1,500 | 15.7 750 | 24.7 |  | 0.867 1,500 | 14.8 500 | 1,000 | 500
339113 Surgical Appliance and Supplies Manufacturing | 58 500 | 529 1,000 | 8.7 500 | 30.3 |  | 0.877 1,500 | 14.6 500 | 750 | 500
339114 Dental Equipment and Supplies Manufacturing | 22 500 | 341 500 | 3.3 500 | 34.6 |  | 0.853 1,500 |  | 750 | 500
339115 Ophthalmic Goods Manufacturing | 46 500 | 594 1,250 | 6.0 500 | 42.5 | 1,595 750 | 0.882 1,500 |  | 1,000 | 500
339116 Dental Laboratories | 8 500 | 160 500 | 0.2 500 | 18.0 |  | 0.553 500 |  | 500 | 500
339910 Jewelry and Silverware Manufacturing | 15 500 | 185 500 | 1.9 500 |  |  | 0.784 750 |  | 500 | 500
339920 Sporting and Athletic Goods Manufacturing | 27 500 | 305 500 | 3.8 500 | 27.0 |  | 0.838 1,500 | 27.0 500 | 750 | 500
339930 Doll, Toy, and Game Manufacturing | 17 500 | 266 500 | 2.1 500 |  |  | 0.778 750 |  | 500 | 500
339940 Office Supplies (except Paper) Manufacturing | 25 500 | 176 500 |  |  |  | 0.828 1,500 | 37.7 500 | 750 | 500
339950 Sign Manufacturing | 14 500 | 105 500 | 0.9 500 | 6.7 |  | 0.693 500 |  | 500 | 500
339991 Gasket, Packing, and Sealing Device Manufacturing | 61 500 | 335 500 | 6.3 500 | 26.9 |  | 0.774 750 |  | 500 | 500
339992 Musical Instrument Manufacturing | 23 500 | 424 750 | 1.9 500 | 32.2 |  | 0.819 1,500 |  | 1,000 | 500
339993 Fastener, Button, Needle, and Pin Manufacturing | 31 500 | 526 1,000 |  | 49.1 | 533 500 | 0.783 750 |  | 750 | 500
339994 Broom, Brush, and Mop Manufacturing | 53 500 | 223 500 | 5.4 500 | 29.3 |  | 0.765 500 |  | 500 | 500
339995 Burial Casket Manufacturing | 36 500 | 873 1,500 |  | 73.5 | 673 500 | 0.896 1,500 |  | 1,000 | 500
339999 All Other Miscellaneous Manufacturing | 13 500 | 135 500 | 1.4 500 | 26.2 |  | 0.764 500 | −20.8 750 | 500 | 500

Special Considerations: NAICS Code 324110 (Petroleum Refiners)

Footnote 4 of SBA's table of size standards (13 CFR 121.201) states that to qualify as a small business concern for purposes of Government procurement, the petroleum refiner must be a concern that has no more than 1,500 employees and no more than 125,000 barrels per calendar day total Operable Atmospheric Crude Oil Distillation capacity. In addition, the total product to be delivered under the small business contract must be at least 90 percent refined by the successful bidder from either crude oil or bona fide feedstocks.

To determine if the current Petroleum Refiners size standard is appropriate, SBA analyzed current data on both total and aviation fuel capacity, as well as the number of employees of all refiners operating in the U.S. SBA also examined industry trends, and the Federal government's petroleum procurement needs. Based on this analysis, SBA proposes to increase the refining capacity component of the Petroleum Refiners (NAICS 324110) size standard from 125,000 barrels per calendar day (BPCD) total Operable Atmospheric Crude Oil Distillation capacity to 200,000 BPCD, and maintain the employee component at the current 1,500-employee level. Under the proposed size standard, for proposes of Federal procurement, a petroleum refiner can qualify as small under the 1,500-employee size standard or under the 200,000 BPCD capacity size standard. To qualify under the capacity size standard, the firm, together with its affiliates, must be primarily engaged in refining crude petroleum into refined petroleum products. The proposed increase to the capacity size standard would expand the pool of small refiners that produce aviation fuel.

Since the current regulation (limitations on subcontracting) already requires that a concern must perform at least 50 percent of the cost of contracts for the supplies or products (not including the costs of materials) (see 13 CFR 125.6), SBA is also proposing to remove the requirement that total product to be delivered under the small business contract must be at least 90 percent refined by the successful bidder from either crude oil or bona fide feedstocks. SBA has found this 90 percent requirement to be overly restrictive for small refiners to compete for government contracts. The removal of this requirement will make the limitations on subcontracting consistent across all contracts for manufactured products or supplies.

Given these changes, SBA also proposes to revise Footnote 4 of the SBA's table of size standards to read as follows:

“To qualify as small for purposes of Government procurement, the petroleum refiner, including its affiliates, must be a concern that has no more than 1,500 employees OR no more than 200,000 barrels per calendar day total Operable Atmospheric Crude Oil Distillation capacity. Capacity includes all domestic and foreign affiliates, owned or leased facilities, and facilities under a processing agreement or an arrangement such as an exchange agreement or a throughput. To qualify under the capacity size standard, the firm, together with its affiliates, must be primarily engaged in refining crude petroleum into refined petroleum products. A firm's “primary industry” is determined in accordance with 13 CFR 121.107.”

NAICS 326211, Tire Manufacturing (Except Retreading)

Footnote 5 to SBA size standards table currently includes Census Bureau's Product Classifications codes based on Standard Industry Classification (SIC) system: Namely 30111 (Passenger car pneumatic tires) and 30112 (Truck/bus tires, including off highway, pneumatic tires). To make them consistent with industry size standards that are based on NAICS, in this proposed rule, SBA amends Footnote 5 by replacing them with the Census Bureau's corresponding NAICS Product Classification codes 3262111 and 3262113, respectively. The amended Footnote 5 will read as follows:

5. NAICS code 326211—For Government procurement, a firm is small for bidding on a contract for pneumatic tires within Census NAICS Product Classification codes 3262111 and 3262113, provided that:

(a) The value of tires within Census NAICS Product Classification codes 3262113 which it manufactured in the United States during the previous calendar year is more than 50 percent of the value of its total worldwide manufacture,

(b) The value of pneumatic tires within Census NAICS Product Classification codes 3262113 comprising its total worldwide manufacture during the preceding calendar year was less than 5 percent of the value of all such tires manufactured in the United States during that period, and

(c) The value of the principal product which it manufactured or otherwise produced, or sold worldwide during the preceding calendar year is less than 10 percent of the total value of such products manufactured or otherwise produced or sold in the United States during that period.

Proposed Changes to Size Standards

As can be seen from Table 3, Size Standards Supported by Each Factor for Each Industry (No. of employees), the results might support increases in size standards for 209 industries, decreases for 19 industries and no changes for 136 industries.

However, SBA believes that lowering small business size standards is not in the best interest of small businesses in the current economic environment. The U.S. economy was in recession from December 2007 to June 2009, the longest and deepest of any recessions since before World War II. The economy lost more than eight million non-farm jobs during 2008-2009. In response, Congress passed and the President signed into law the American Recovery and Reinvestment Act of 2009 (Recovery Act) to promote economic recovery and to preserve and create jobs. Although the recession officially ended in June 2009, the unemployment rate is still high at 6.2 percent in July 2014 (www.bls.gov) and is forecast to remain around this level at least through the end of 2014 (http://www.federalreserve.gov/monetarypolicy/mpr_20140211_part3.htm).

In 2010, Congress passed and the President signed the Jobs Act to promote small business job creation. The Jobs Act puts more capital into the hands of entrepreneurs and small business owners; strengthens small businesses' ability to compete for contracts; includes recommendations from the President's Task Force on Federal Contracting Opportunities for Small Business; creates a better playing field for small businesses; promotes small business exporting, building on the President's National Export Initiative; expands training and counseling; and provides $12 billion in tax relief to help small businesses invest in their firms and create jobs. A proposal to reduce size standards will have an immediate impact on jobs, and it would be contrary to the expressed will of the President and the Congress.

Lowering size standards would decrease the number of firms that participate in Federal financial and procurement assistance programs for small businesses. It would also affect small businesses that are now exempt or receive some form of relief from other Federal regulations that use SBA's size standards. That impact could take the form of increased fees, paperwork, or other compliance requirements for small businesses. Furthermore, size standards based solely on analytical results without any other considerations can cut off currently eligible small firms from those programs and benefits. In the 19 industries for which analytical results might have supported lowering their size standards, about 60 businesses would lose their small business eligibility if their size standards were lowered. That would run counter to what SBA and the Federal government are doing to help small businesses and create jobs. Reducing size eligibility for Federal procurement opportunities, especially under current economic conditions, would not preserve or create more jobs; rather, it would have the opposite effect. Therefore, in this proposed rule, SBA does not intend to reduce size standards for any industries. Accordingly, for industries where analyses might seem to support lowering size standards, SBA proposes to retain the current size standards.

Furthermore, as stated previously, the Small Business Act requires the SBA's Administrator to “. . . consider other factors deemed to be relevant . . .” to establishing small business size standards. The current economic conditions and the impact on job creation are quite relevant factors when establishing small business size standards. SBA nevertheless invites comments and suggestions on whether it should lower size standards as suggested by analyses of industry and program data or retain the current standards for those industries in view of current economic conditions.

As discussed above, lowering small business size standards is inconsistent with what the Federal government is doing to stimulate the economy and would discourage job growth for which Congress established the Recovery Act and Jobs Act. In addition, it would be inconsistent with the Small Business Act requiring the Administrator to establish size standards based on industry analysis and other relevant factors such as current economic conditions. Thus, of the 364 manufacturing industries reviewed in this rule, SBA proposes to increase size standards for 209 industries and retain the current size standards for 155 industries, including 19 for which the results might support lowering their size standards. The proposed size standards are in Table 4, Summary of Proposed Size Standards Revisions, below.

Table 4—Summary of Proposed Size Standards Revisions
NAICS code | NAICS U.S. industry title | Current size standard (number of employees) | Proposed size standard (number of employees)
311111 | Dog and Cat Food Manufacturing | 500 | 1,000
311211 | Flour Milling | 500 | 1,000
311221 | Wet Corn Milling | 750 | 1,250
311314 | Cane Sugar Manufacturing | 750 | 1,000
311340 | Nonchocolate Confectionery Manufacturing | 500 | 1,000
311351 | Chocolate and Confectionery Manufacturing from Cacao Beans | 500 | 1,250
311352 | Confectionery Manufacturing from Purchased Chocolate | 500 | 1,000
311411 | Frozen Fruit, Juice, and Vegetable Manufacturing | 500 | 1,000
311412 | Frozen Specialty Food Manufacturing | 500 | 1,250
311421 | Fruit and Vegetable Canning | 500 | 1,000
311422 | Specialty Canning | 1,000 | 1,250
311423 | Dried and Dehydrated Food Manufacturing | 500 | 750
311511 | Fluid Milk Manufacturing | 500 | 1,000
311512 | Creamery Butter Manufacturing | 500 | 750
311513 | Cheese Manufacturing | 500 | 1,250
311514 | Dry, Condensed, and Evaporated Dairy Product Manufacturing | 500 | 750
311520 | Ice Cream and Frozen Dessert Manufacturing | 500 | 1,000
311611 | Animal (except Poultry) Slaughtering | 500 | 1,000
311612 | Meat Processed from Carcasses | 500 | 1,000
311613 | Rendering and Meat Byproduct Processing | 500 | 750
311615 | Poultry Processing | 500 | 1,250
311710 | Seafood Product Preparation and Packaging | 500 | 750
311812 | Commercial Bakeries | 500 | 1,000
311813 | Frozen Cakes, Pies, and Other Pastries Manufacturing | 500 | 750
311821 | Cookie and Cracker Manufacturing | 750 | 1,250
311824 | Dry Pasta, Dough, and Flour Mixes Manufacturing from Purchased Flour | 500 | 750
311830 | Tortilla Manufacturing | 500 | 1,250
311911 | Roasted Nuts and Peanut Butter Manufacturing | 500 | 750
311919 | Other Snack Food Manufacturing | 500 | 1,250
311920 | Coffee and Tea Manufacturing | 500 | 750
311930 | Flavoring Syrup and Concentrate Manufacturing | 500 | 1,000
311941 | Mayonnaise, Dressing, and Other Prepared Sauce Manufacturing | 500 | 750
312111 | Soft Drink Manufacturing | 500 | 1,250
312112 | Bottled Water Manufacturing | 500 | 1,000
312113 | Ice Manufacturing | 500 | 750
312120 | Breweries | 500 | 1,250
312130 | Wineries | 500 | 1,000
312140 | Distilleries | 750 | 1,000
312230 | Tobacco Manufacturing | 1,000 | 1,500
313110 | Fiber, Yarn, and Thread Mills | 500 | 1,250
313230 | Nonwoven Fabric Mills | 500 | 750
314110 | Carpet and Rug Mills | 500 | 1,500
314120 | Curtain and Linen Mills | 500 | 750
315110 | Hosiery and Sock Mills | 500 | 750
315190 | Other Apparel Knitting Mills | 500 | 750
315210 | Cut and Sew Apparel Contractors | 500 | 750
315220 | Men's and Boys' Cut and Sew Apparel Manufacturing | 500 | 750
315240 | Women's, Girls', and Infants' Cut and Sew Apparel Manufacturing | 500 | 750
315280 | Other Cut and Sew Apparel Manufacturing | 500 | 750
316992 | Women's Handbag and Purse Manufacturing | 500 | 750
321212 | Softwood Veneer and Plywood Manufacturing | 500 | 1,250
321213 | Engineered Wood Member (except Truss) Manufacturing | 500 | 750
321219 | Reconstituted Wood Product Manufacturing | 500 | 750
321911 | Wood Window and Door Manufacturing | 500 | 1,000
321991 | Manufactured Home (Mobile Home) Manufacturing | 500 | 1,250
322121 | Paper (except Newsprint) Mills | 750 | 1,250
322130 | Paperboard Mills | 750 | 1,250
322211 | Corrugated and Solid Fiber Box Manufacturing | 500 | 1,250
322219 | Other Paperboard Container Manufacturing | 750 | 1,000
322220 | Paper Bag and Coated and Treated Paper Manufacturing | 500 | 750
322230 | Stationery Product Manufacturing | 500 | 750
322291 | Sanitary Paper Product Manufacturing | 500 | 1,500
323117 | Books Printing | 500 | 1,250
324191 | Petroleum Lubricating Oil and Grease Manufacturing | 500 | 750
325194 | Cyclic Crude, Intermediate, and Gum and Wood Chemical Manufacturing | 750 | 1,250
325199 | All Other Basic Organic Chemical Manufacturing | 1,000 | 1,250
325211 | Plastics Material and Resin Manufacturing | 750 | 1,250
325312 | Phosphatic Fertilizer Manufacturing | 500 | 750
325320 | Pesticide and Other Agricultural Chemical Manufacturing | 500 | 1,000
325411 | Medicinal and Botanical Manufacturing | 750 | 1,000
325412 | Pharmaceutical Preparation Manufacturing | 750 | 1,250
325413 | In-Vitro Diagnostic Substance Manufacturing | 500 | 1,250
325414 | Biological Product (except Diagnostic) Manufacturing | 500 | 1,250
325510 | Paint and Coating Manufacturing | 500 | 1,000
325611 | Soap and Other Detergent Manufacturing | 750 | 1,000
325612 | Polish and Other Sanitation Good Manufacturing | 500 | 750
325613 | Surface Active Agent Manufacturing | 500 | 750
325620 | Toilet Preparation Manufacturing | 500 | 1,250
325992 | Photographic Film, Paper, Plate, and Chemical Manufacturing | 500 | 1,500
326111 | Plastics Bag and Pouch Manufacturing | 500 | 750
326112 | Plastics Packaging Film and Sheet (including Laminated) Manufacturing | 500 | 1,000
326113 | Unlaminated Plastics Film and Sheet (except Packaging) Manufacturing | 500 | 750
326122 | Plastics Pipe and Pipe Fitting Manufacturing | 500 | 750
326140 | Polystyrene Foam Product Manufacturing | 500 | 1,000
326150 | Urethane and Other Foam Product (except Polystyrene) Manufacturing | 500 | 750
326160 | Plastics Bottle Manufacturing | 500 | 1,250
326191 | Plastics Plumbing Fixture Manufacturing | 500 | 750
326211 | Tire Manufacturing (except Retreading) | 1,000 | 1,500
326220 | Rubber and Plastics Hoses and Belting Manufacturing | 500 | 750
326291 | Rubber Product Manufacturing for Mechanical Use | 500 | 750
327110 | Pottery, Ceramics, and Plumbing Fixture Manufacturing | 750 | 1,000
327212 | Other Pressed and Blown Glass and Glassware Manufacturing | 750 | 1,250
327213 | Glass Container Manufacturing | 750 | 1,250
327215 | Glass Product Manufacturing Made of Purchased Glass | 500 | 1,000
327310 | Cement Manufacturing | 750 | 1,000
327332 | Concrete Pipe Manufacturing | 500 | 750
327410 | Lime Manufacturing | 500 | 750
327420 | Gypsum Product Manufacturing | 1,000 | 1,500
327910 | Abrasive Product Manufacturing | 500 | 750
327993 | Mineral Wool Manufacturing | 750 | 1,500
331110 | Iron and Steel Mills and Ferroalloy Manufacturing | 1,000 | 1,500
331315 | Aluminum Sheet, Plate, and Foil Manufacturing | 750 | 1,250
331511 | Iron Foundries | 500 | 1,000
331512 | Steel Investment Foundries | 500 | 1,000
332111 | Iron and Steel Forging | 500 | 750
332112 | Nonferrous Forging | 500 | 750
332215 | Metal Kitchen Cookware, Utensil, Cutlery, and Flatware (except Precious) Manufacturing | 500 | 750
332216 | Saw Blade and Handtool Manufacturing | 500 | 750
332311 | Prefabricated Metal Building and Component Manufacturing | 500 | 750
332313 | Plate Work Manufacturing | 500 | 750
332321 | Metal Window and Door Manufacturing | 500 | 750
332410 | Power Boiler and Heat Exchanger Manufacturing | 500 | 750
332420 | Metal Tank (Heavy Gauge) Manufacturing | 500 | 750
332431 | Metal Can Manufacturing | 1,000 | 1,500
332510 | Hardware Manufacturing | 500 | 750
332911 | Industrial Valve Manufacturing | 500 | 750
332912 | Fluid Power Valve and Hose Fitting Manufacturing | 500 | 1,000
332913 | Plumbing Fixture Fitting and Trim Manufacturing | 500 | 1,000
332919 | Other Metal Valve and Pipe Fitting Manufacturing | 500 | 750
332991 | Ball and Roller Bearing Manufacturing | 750 | 1,250
332992 | Small Arms Ammunition Manufacturing | 1,000 | 1,250
333111 | Farm Machinery and Equipment Manufacturing | 500 | 1,250
333112 | Lawn and Garden Tractor and Home Lawn and Garden Equipment Manufacturing | 500 | 1,500
333120 | Construction Machinery Manufacturing | 750 | 1,250
333132 | Oil and Gas Field Machinery and Equipment Manufacturing | 500 | 1,250
333242 | Semiconductor Machinery Manufacturing | 500 | 1,500
333244 | Printing Machinery and Equipment Manufacturing | 500 | 750
333415 | Air-Conditioning and Warm Air Heating Equipment and Commercial and Industrial Refrigeration Equipment Manufacturing | 750 | 1,250
333611 | Turbine and Turbine Generator Set Units Manufacturing | 1,000 | 1,500
333612 | Speed Changer, Industrial High-Speed Drive, and Gear Manufacturing | 500 | 750
333613 | Mechanical Power Transmission Equipment Manufacturing | 500 | 750
333618 | Other Engine Equipment Manufacturing | 1,000 | 1,500
333911 | Pump and Pumping Equipment Manufacturing | 500 | 750
333912 | Air and Gas Compressor Manufacturing | 500 | 1,000
333913 | Measuring and Dispensing Pump Manufacturing | 500 | 750
333921 | Elevator and Moving Stairway Manufacturing | 500 | 1,000
333923 | Overhead Traveling Crane, Hoist, and Monorail System Manufacturing | 500 | 1,250
333992 | Welding and Soldering Equipment Manufacturing | 500 | 1,250
333995 | Fluid Power Cylinder and Actuator Manufacturing | 500 | 750
333996 | Fluid Power Pump and Motor Manufacturing | 500 | 1,250
334111 | Electronic Computer Manufacturing | 1,000 | 1,250
334112 | Computer Storage Device Manufacturing | 1,000 | 1,250
334210 | Telephone Apparatus Manufacturing | 1,000 | 1,250
334220 | Radio and Television Broadcasting and Wireless Communications Equipment Manufacturing | 750 | 1,250
334412 | Bare Printed Circuit Board Manufacturing | 500 | 750
334413 | Semiconductor and Related Device Manufacturing | 500 | 1,250
334417 | Electronic Connector Manufacturing | 500 | 1,000
334418 | Printed Circuit Assembly (Electronic Assembly) Manufacturing | 500 | 750
334510 | Electromedical and Electrotherapeutic Apparatus Manufacturing | 500 | 1,250
334511 | Search, Detection, Navigation, Guidance, Aeronautical, and Nautical System and Instrument Manufacturing | 750 | 1,250
334513 | Instruments and Related Products Manufacturing for Measuring, Displaying, and Controlling Industrial Process Variables | 500 | 750
334514 | Totalizing Fluid Meter and Counting Device Manufacturing | 500 | 750
334515 | Instrument Manufacturing for Measuring and Testing Electricity and Electrical Signals | 500 | 750
334516 | Analytical Laboratory Instrument Manufacturing | 500 | 1,000
334517 | Irradiation Apparatus Manufacturing | 500 | 1,000
334614 | Software and Other Prerecorded Compact Disc, Tape, and Record Reproducing | 750 | 1,250
335110 | Electric Lamp Bulb and Part Manufacturing | 1,000 | 1,250
335121 | Residential Electric Lighting Fixture Manufacturing | 500 | 750
335210 | Small Electrical Appliance Manufacturing | 750 | 1,500
335221 | Household Cooking Appliance Manufacturing | 750 | 1,500
335222 | Household Refrigerator and Home Freezer Manufacturing | 1,000 | 1,250
335224 | Household Laundry Equipment Manufacturing | 1,000 | 1,250
335228 | Other Major Household Appliance Manufacturing | 500 | 1,000
335312 | Motor and Generator Manufacturing | 1,000 | 1,250
335313 | Switchgear and Switchboard Apparatus Manufacturing | 750 | 1,250
335911 | Storage Battery Manufacturing | 500 | 1,250
335932 | Noncurrent-Carrying Wiring Device Manufacturing | 500 | 1,000
336111 | Automobile Manufacturing | 1,000 | 1,500
336112 | Light Truck and Utility Vehicle Manufacturing | 1,000 | 1,500
336120 | Heavy Duty Truck Manufacturing | 1,000 | 1,500
336212 | Truck Trailer Manufacturing | 500 | 1,000
336213 | Motor Home Manufacturing | 1,000 | 1,250
336214 | Travel Trailer and Camper Manufacturing | 500 | 1,000
336310 | Motor Vehicle Gasoline Engine and Engine Parts Manufacturing | 750 | 1,000
336320 | Motor Vehicle Electrical and Electronic Equipment Manufacturing | 750 | 1,000
336330 | Motor Vehicle Steering and Suspension Components (except Spring) Manufacturing | 750 | 1,000
336340 | Motor Vehicle Brake System Manufacturing | 750 | 1,250
336350 | Motor Vehicle Transmission and Power Train Parts Manufacturing | 750 | 1,500
336360 | Motor Vehicle Seating and Interior Trim Manufacturing | 500 | 1,500
336370 | Motor Vehicle Metal Stamping | 500 | 1,000
336390 | Other Motor Vehicle Parts Manufacturing | 750 | 1,000
336412 | Aircraft Engine and Engine Parts Manufacturing | 1,000 | 1,500
336413 | Other Aircraft Parts and Auxiliary Equipment Manufacturing | 1,000 | 1,250
336414 | Guided Missile and Space Vehicle Manufacturing | 1,000 | 1,250
336415 | Guided Missile and Space Vehicle Propulsion Unit and Propulsion Unit Parts Manufacturing | 1,000 | 1,250
336510 | Railroad Rolling Stock Manufacturing | 1,000 | 1,500
336611 | Ship Building and Repairing | 1,000 | 1,250
336612 | Boat Building | 500 | 1,000
336991 | Motorcycle, Bicycle, and Parts Manufacturing | 500 | 1,000
336992 | Military Armored Vehicle, Tank, and Tank Component Manufacturing | 1,000 | 1,500
336999 | All Other Transportation Equipment Manufacturing | 500 | 1,000
337110 | Wood Kitchen Cabinet and Countertop Manufacturing | 500 | 750
337121 | Upholstered Household Furniture Manufacturing | 500 | 1,000
337122 | Nonupholstered Wood Household Furniture Manufacturing | 500 | 750
337124 | Metal Household Furniture Manufacturing | 500 | 750
337125 | Household Furniture (except Wood and Metal) Manufacturing | 500 | 750
337211 | Wood Office Furniture Manufacturing | 500 | 1,000
337214 | Office Furniture (except Wood) Manufacturing | 500 | 1,000
337910 | Mattress Manufacturing | 500 | 1,000
337920 | Blind and Shade Manufacturing | 500 | 1,000
339112 | Surgical and Medical Instrument Manufacturing | 500 | 1,000
339113 | Surgical Appliance and Supplies Manufacturing | 500 | 750
339114 | Dental Equipment and Supplies Manufacturing | 500 | 750
339115 | Ophthalmic Goods Manufacturing | 500 | 1,000
339920 | Sporting and Athletic Goods Manufacturing | 500 | 750
339940 | Office Supplies (except Paper) Manufacturing | 500 | 750
339992 | Musical Instrument Manufacturing | 500 | 1,000
339993 | Fastener, Button, Needle, and Pin Manufacturing | 500 | 750
339995 | Burial Casket Manufacturing | 500 | 1,000

Maintaining current size standards when the analytical results suggested lowering them is consistent with SBA's recent final rules on NAICS Sector 44-45, Retail Trade (75 FR 61597 (October 6, 2010)); NAICS Sector 72, Accommodation and Food Services (75 FR 61604 (October 6, 2010)); NAICS Sector 81, Other Services (75 FR 61591 (October 6, 2010)); NAICS Sector 54, Professional, Scientific and Technical Services (77 FR 7490 (February 10, 2012)); NAICS Sector 48 49, Transportation and Warehousing (77 FR 10943 (February 24, 2012)); NAICS Sector 51, Information (77 FR 72702 (December 6, 2012)); NAICS Sector 53, Real Estate and Rental and Leasing (77 FR 88747 (September 24, 2012)); NAICS Sector 56, Administrative and Support, Waste Management and Remediation Services (77 FR 72691 (December 6, 2012)); NAICS Sector 61, Educational Services (77 FR 58739 (September 24, 2012)); and NAICS Sector 62, Health Care and Social Assistance (77 FR 58755 (September 24, 2012)); NAICS Sector 11, Agriculture, Forestry, Fishing and Hunting (78 FR 37398 (June 20, 2013)); NAICS Subsector 213, Support Activities for Mining (78 FR 37404 (June 20, 2013)); NAICS Sector 52, Finance and Insurance and Sector 55, Management of Companies and Enterprises (78 FR 37409 (June 20, 2013)); NAICS Sector 71, Arts, Entertainment and Recreation (78 FR 37417 (June 20, 2013)); and NAICS Sector 23, Construction (78 FR 77334 (December 23, 2013)). In each of those final rules, SBA retained the existing size standards for those that it could have reduced.

Evaluation of Dominance in Field of Operation

SBA has determined that for the industries for which it has proposed to increase size standards in this proposed rule, no individual firm at or below the proposed size standard will be large enough to dominate its field of operation. At the proposed size standards, if adopted, the small business share of total industry receipts among those industries for which SBA has proposed to increase their size standards is, on average, 1.7 percent, varying from a minimum of 0.02 percent to a maximum of 18.9 percent. These market shares effectively preclude a firm at or below the proposed size standards from exerting control on any of the industries.

Request for Comments

SBA invites public comments on this proposed rule, especially on the following issues:

1. SBA proposes five levels of employee based size standards for industries in Manufacturing and industries in other Sectors except for Wholesale Trade and Retail Trade that have employee based size standards: 500 employees, 750 employees, 1,000 employees, 1,250 employees, and 1,500 employees. SBA invites comments on whether these proposed size levels are appropriate and suggestions on alternative levels, if they would be more appropriate.

2. To be consistent with its policy of not lowering any size standards in all recent proposed and final rules on receipts based size standards in view of current economic conditions, SBA is retaining the current 500-employee minimum and 1,500-employee maximum size standards for all industries in the Manufacturing Sector and other industries not in the Wholesale and Retail Trade Sectors that have employee based size standards. In its “Size Standards Methodology,” available at www.sba.gov/size, SBA had proposed setting the minimum size standard for these industries at 250 employees and the maximum size standard at 1,000 employees. This would have resulted in lowering the existing employee based size standards for some industries. SBA invites comments on whether it should maintain the 500-employee minimum and the 1,500-employee maximum size standards or it lower them to 250 employees and 1,000 employees, respectively, as the Agency proposed in its “Size Standards Methodology.” SBA requests suggestions on alternative minimum and maximum levels, if they would be more appropriate.

3. SBA seeks feedback on whether it should adjust employee based size standards for labor productivity growth. SBA periodically increases receipts based size standards for inflation. Should SBA take labor productivity growth and technological change into consideration when it reviews employee based standards? If so, what data are available to assist SBA in evaluating such factors? What if such an evaluation leads to lower size standards for some industries? How should SBA apply the results to its size standards decision?

4. SBA seeks feedback on whether its proposal to increase size standards for 209 industries and retain current size standards for 155 industries is appropriate, given the economic characteristics of each industry reviewed in this proposed rule. SBA also seeks feedback and suggestions on alternative size standards, if they would be more appropriate.

5. SBA has proposed to retain the current size standards for 19 industries for which the analytical results would support lowering them. SBA seeks comments on whether SBA should lower them solely based on its analysis or retain them at their current levels in view of current economic conditions.

6. SBA invites comments on its proposal to increase the capacity component of the Petroleum Refiners (NAICS 324110) size standard from 125,000 barrels per calendar day (BPCD) total Operable Atmospheric Crude Oil Distillation capacity to 200,000 BPCD and retain the employee component at the current 1,500-employee level. SBA also welcomes comments on its proposal to allow business concerns to qualify either under the 1,500-employee size standard or under the 200,000 BPCD capacity size standard, if they, together with affiliates, are primarily engaged in petroleum refining. Finally, SBA also seeks feedback on its proposal to eliminate the requirement that “[t]he total product to be delivered under the contract must be at least 90 percent refined by the successful bidder from either crude oil or bona fide feedstocks.”

7. SBA's proposed size standards are based on five primary factors—average firm size, average assets size (as a proxy of startup costs and entry barriers), four-firm concentration ratio, distribution of firms by size and, the level and small business share of Federal contracting dollars of the evaluated industries and sub-industries. SBA welcomes comments on these factors and/or suggestions on other factors that it should consider when evaluating or revising employee based size standards. SBA also seeks information on relevant data sources, other than what it uses, if available.

8. SBA gives equal weight to each of the five primary factors in all industries. SBA seeks feedback on whether it should continue giving equal weight to each factor or whether it should give more weight to one or more factors for certain industries. Recommendations to weigh some factors more than others should include suggested weights for each factor along with supporting information.

9. For analytical simplicity and efficiency, in this proposed rule, SBA has refined its size standard methodology to obtain a single value as a proposed size standard instead of a range of values, as in its past size regulations. SBA welcomes any comments on this procedure and suggestions on alternative methods.

Public comments on the above issues are very valuable to SBA for validating its size standard methodology and its proposed size standards revisions in this proposed rule. This will help SBA to ensure that size standards reflect industry structure and Federal market conditions. Commenters addressing SBA's proposed size standard revisions for a specific industry or a group of industries should include relevant data and/or other information supporting their comments. If comments relate to using size standards for Federal procurement programs, SBA suggests that commenters provide information on the size of contracts in their industries, the size of businesses that can undertake the contracts, startup costs, equipment and other asset requirements, the amount of subcontracting, other direct and indirect costs associated with the contracts, the use of mandatory sources of supply for products and services, and the degree to which contractors can mark up those costs.

Compliance With Executive Orders 12866, 13563, 12988 and 13132, the Paperwork Reduction Act (44 U.S.C. Ch. 35) and the Regulatory Flexibility Act (5 U.S.C. 601-612)

Executive Order 12866

The Office of Management and Budget (OMB) has determined that this proposed rule is a significant regulatory action for purposes of Executive Order 12866. Accordingly, in the next section SBA provides a Regulatory Impact Analysis of this proposed rule. However, this rule is not a “major rule” under the Congressional Review Act, 5 U.S.C. 800.

Regulatory Impact Analysis

1. Is there a need for the regulatory action?

SBA believes that the proposed size standards revisions in this proposed rule will better reflect the economic characteristics of small businesses and the Federal government marketplace in the affected industries and. SBA's mission is to aid and assist small businesses through a variety of financial, procurement, business development, and advocacy programs. To determine the intended beneficiaries of these programs, SBA establishes distinct definitions of which businesses are deemed small businesses. The Small Business Act (15 U.S.C. 632(a)) delegates to SBA's Administrator the responsibility for establishing small business definitions. The Act also requires that small business definitions vary to reflect industry differences. The Jobs Act also requires SBA to review all size standards and make necessary adjustments to reflect market conditions. The supplementary information section of this proposed rule explains SBA's methodology for analyzing a size standard for a particular industry.

2. What are the potential benefits and costs of this regulatory action?

The most significant benefit to businesses obtaining small business status because of this proposed rule is gaining or retaining eligibility for Federal small business assistance programs. These include SBA's financial assistance programs, economic injury disaster loans, and Federal procurement programs intended for small businesses. Federal procurement programs provide targeted opportunities for small businesses under SBA's business development programs, such as 8(a), Small Disadvantaged Businesses (SDB), small businesses located in Historically Underutilized Business Zones (HUBZone), women-owned small businesses (WOSB), economically disadvantaged women-owned small businesses (EDWOSB), and service-disabled veteran-owned small businesses (SDVOSB). Federal agencies may also use SBA's size standards for a variety of other regulatory and program purposes. These programs assist small businesses to become more knowledgeable, stable, and competitive. SBA estimates that in 209 industries for which it has proposed to increase size standards about 1,250 firms, not small under the existing size standards, will become small under the proposed size standards and therefore become eligible for these programs. That is about 0.4 percent of all firms classified as small under the current size standards in all industries reviewed in this proposed rule. If adopted as proposed, this will increase the small business share of total receipts in those industries from 26 percent to 29 percent.

Three groups will benefit from the proposed size standards revisions in this rule, if they are adopted as proposed: (1) Some businesses that are above the current size standards may gain small business status under the higher size standards, thereby enabling them to participate in Federal small business assistance programs; (2) growing small businesses that are close to exceeding the current size standards will be able to retain their small business status under the higher size standards, thereby enabling them to continue their participation in the programs; and (3) Federal agencies will have a larger pool of small businesses from which to draw for their small business procurement programs.

SBA estimates that firms gaining small business status under the proposed size standards could receive Federal contracts totaling $170 million to $175 million annually under SBA's small business, 8(a), SDB, HUBZone, WOSB, EDWOSB, and SDVOSB Programs, and other unrestricted procurements. The added competition for many of these procurements can also result in lower prices to the Government for procurements reserved for small businesses, but SBA cannot quantify this benefit.

Under SBA's 7(a) and 504 Loan Programs, based on the fiscal years 2010-2012 data, SBA estimates up to about 25 SBA loans totaling about $12.0 million could be made to these newly defined small businesses under the proposed size standards. Increasing the size standards will likely result in more small business guaranteed loans to businesses in these industries, but it is be impractical to try to estimate exactly the number and total amount of loans. There are two reasons for this: (1) Under the Jobs Act, SBA can now guarantee substantially larger loans than in the past; and (2) as described above, the Jobs Act established a higher alternative size standard ($15 million in tangible net worth and $5 million in net income after income taxes) for business concerns that do not meet the size standards for their industry. Therefore, SBA finds it difficult to quantify the actual impact of these proposed size standards on its 7(a) and 504 Loan Programs.

Newly defined small businesses will also benefit from SBA's Economic Injury Disaster Loan (EIDL) Program. Since this program is contingent on the occurrence and severity of a disaster in the future, SBA cannot make a meaningful estimate of this impact.

In addition, newly defined small businesses will also benefit through reduced fees, less paperwork, and fewer compliance requirements that are available to small businesses through Federal government.

To the extent that those 1,250 newly defined additional small firms could become active in Federal procurement programs, the proposed changes to size standards, if adopted, may entail some additional administrative costs to the government as a result of more businesses being eligible for Federal small business programs. For example, there will be more firms seeking SBA's guaranteed loans, more firms eligible for enrollment in the System of Award Management (SAM) database, and more firms seeking certification as 8(a) or HUBZone firms or qualifying for small business, WOSB, EDWOSB, SDVOSB, and SDB status. Among those newly defined small businesses seeking SBA's assistance, there could be some additional costs associated with compliance and verification of small business status and protests of small business status. However, SBA believes that these added administrative costs will be minimal because mechanisms are already in place to handle these requirements.

Additionally, Federal government contracts may have higher costs. With a greater number of businesses defined as small, Federal agencies may choose to set aside more contracts for competition among small businesses only rather than using full and open competition. The movement from unrestricted to small business set-aside contracting might result in competition among fewer total bidders, although there will be more small businesses eligible to submit offers. However, the additional costs associated with fewer bidders are expected to be minor since, by law, procurements may be set aside for small businesses or reserved for the 8(a), HUBZone, WOSB, EDWOSB, or SDVOSB Programs only if awards are expected to be made at fair and reasonable prices. In addition, there may be higher costs when more full and open contracts are awarded to HUBZone businesses that receive price evaluation preferences.

The proposed size standards revisions, if adopted, may have some distributional effects among large and small businesses. Although SBA cannot estimate with certainty the actual outcome of the gains and losses among small and large businesses, it can identify several probable impacts. There may be a transfer of some Federal contracts to small businesses from large businesses. Large businesses may have fewer Federal contract opportunities as Federal agencies decide to set aside more contracts for small businesses. In addition, some Federal contracts may be awarded to HUBZone concerns instead of large businesses since these firms may be eligible for a price evaluation preference for contracts when they compete on a full and open basis.

Similarly, some businesses defined small under the current size standards may obtain fewer Federal contracts due to the increased competition from more businesses defined as small under the proposed size standards. This transfer may be offset by a greater number of Federal procurements set aside for all small businesses. The number of newly defined and expanding small businesses that are willing and able to sell to the Federal Government will limit the potential transfer of contracts from large and currently defined small businesses. SBA cannot estimate the potential distributional impacts of these transfers with any degree of precision.

The proposed revisions to the existing size standards for 210 industries in Sector 31-33 are consistent with SBA's statutory mandate to assist small business. This regulatory action promotes the Administration's objectives. One of SBA's goals in support of the Administration's objectives is to help individual small businesses succeed through fair and equitable access to capital and credit, Government contracts, and management and technical assistance. Reviewing and modifying size standards, when appropriate, ensures that intended beneficiaries have access to small business programs designed to assist them.

Executive Order 13563

Descriptions of the need for this regulatory action and benefits and costs associated with this action including possible distributional impacts that relate to Executive Order 13563 are included above in the Regulatory Impact Analysis under Executive Order 12866, above.

In an effort to engage interested parties in this action, SBA has presented its size standards methodology (discussed above under Supplementary Information) to various industry associations and trade groups. SBA also met with a number of industry groups and individual businesses to get their feedback on its methodology and other size standards issues. In addition, SBA presented its size standards methodology to businesses in 13 cities in the U.S. and sought their input as part of Jobs Act tours. The presentation also included information on the latest status of the comprehensive size standards review and on how interested parties can provide SBA with input and feedback on size standards review.

Additionally, SBA sent letters to the Directors of the Offices of Small and Disadvantaged Business Utilization (OSDBU) at several Federal agencies with considerable procurement responsibilities requesting their feedback on how the agencies use SBA's size standards and whether current size standards meet their programmatic needs (both procurement and non-procurement). SBA gave appropriate consideration to all input, suggestions, recommendations, and relevant information obtained from industry groups, individual businesses, and Federal agencies in preparing this proposed rule.

The review of size standards in industries covered in this proposed rule is consistent with Executive Order 13563, Section 6, calling for retrospective analyses of existing rules. The last comprehensive review of size standards occurred during the late 1970s and early 1980s. Since then, except for periodic adjustments for monetary based size standards, most reviews of size standards were limited to a few specific industries in response to requests from the public and Federal agencies. The majority of employee based size standards, including those in NAICS Sector 31-33, have not been reviewed since they were first established. SBA recognizes that changes in industry structure and the Federal marketplace over time have rendered existing size standards for some industries no longer supportable by current data. Accordingly, in 2007, SBA began a comprehensive review of its size standards to ensure that existing size standards have supportable bases and to revise them when necessary. In addition, the Jobs Act requires SBA to conduct a detailed review of all size standards and to make appropriate adjustments to reflect market conditions. Specifically, the Jobs Act requires SBA to conduct a detailed review of at least one-third of all size standards during every 18-month period from the date of its enactment and do a complete review of all size standards not less frequently than once every 5 years thereafter.

Executive Order 12988

This action meets applicable standards set forth in Sections 3(a) and 3(b)(2) of Executive Order 12988, Civil Justice Reform, to minimize litigation, eliminate ambiguity, and reduce burden. The action does not have retroactive or preemptive effect.

Executive Order 13132

For purposes of Executive Order 13132, SBA has determined that this proposed rule will not have substantial, direct effects on the States, on the relationship between the national government and the States, or on the distribution of power and responsibilities among the various levels of government. Therefore, SBA has determined that this proposed rule has no federalism implications warranting preparation of a federalism assessment.

Paperwork Reduction Act

For the purpose of the Paperwork Reduction Act, 44 U.S.C. Ch. 35, SBA has determined that this proposed rule will not impose any new reporting or record keeping requirements.

Initial Regulatory Flexibility Analysis

Under the Regulatory Flexibility Act (RFA), this proposed rule, if adopted, may have a significant impact on a substantial number of small businesses in the industries and sub-industries covered by this rule. As described above, this rule may affect small businesses seeking Federal contracts, loans under SBA's 7(a), 504 and Economic Injury Disaster Loan Programs, and assistance under other Federal small business programs.

Immediately below, SBA sets forth an initial regulatory flexibility analysis (IRFA) of this proposed rule addressing the following questions: (1) What are the need for and objective of the rule? (2) What are SBA's description and estimate of the number of small businesses to which the rule will apply? (3) What are the projected reporting, record keeping, and other compliance requirements of the rule? (4) What are the relevant Federal rules that may duplicate, overlap, or conflict with the rule? and (5) What alternatives will allow the Agency to accomplish its regulatory objectives while minimizing the impact on small businesses?

1. What are the need for and objective of the rule?

Changes in industry structure, technological changes, productivity growth, mergers and acquisitions, and updated industry definitions have changed the structure of many industries reviewed in this proposed rule. Such changes can be sufficient to support revisions to current size standards for some industries. Based on the analysis of the latest data available, SBA believes that the revised standards in this proposed rule more appropriately reflect the size of businesses that need Federal assistance. The Jobs Act also requires SBA to review all size standards and make necessary adjustments to reflect market conditions.

2. What are SBA's description and estimate of the number of small businesses to which the rule will apply?

If the proposed rule is adopted in its present form, SBA estimates that about 1,250 additional firms will become small because of increased size standards 209 industries in NAICS Sector 31-33. That represents 0.4 percent of total firms that are small under current size standards in all industries in that Sector. This will result in an increase in the small business share of total industry receipts in Sector 31-33 from 26 percent under the current size standards to 29 percent under the proposed size standards. The proposed size standards, if adopted, will enable more small businesses to retain their small business status for a longer period. Many firms may have lost their eligibility and find it difficult to compete at current size standards with companies that are significantly larger than they are. SBA believes the competitive impact will be positive for existing small businesses and for those that exceed the size standards but are on the very low end of those that are not small. They might otherwise be called or referred to as mid-sized businesses, although SBA only defines what is small; other entities are other than small.

3. What are the projected reporting, recordkeeping and other compliance requirements of the rule?

The proposed size standard changes impose no additional reporting or recordkeeping requirements on small businesses. However, qualifying for Federal procurement and a number of other programs requires that businesses register in the SAM database and certify in SAM that they are small at least once annually. Therefore, businesses opting to participate in those programs must comply with SAM requirements. However, there are no costs associated with SAM registration or certification. Changing size standards alters the access to SBA's programs that assist small businesses, but does not impose a regulatory burden because they neither regulate nor control business behavior.

4. What are the relevant Federal rules, which may duplicate, overlap or conflict with the rule?

Under § 3(a)(2)(C) of the Small Business Act, 15 U.S.C. 632(a)(2)(c), Federal agencies must use SBA's size standards to define a small business, unless specifically authorized by statute to do otherwise. In 1995, SBA published in the Federal Register a list of statutory and regulatory size standards that identified the application of SBA's size standards as well as other size standards used by Federal agencies (60 FR 57988 (November 24, 1995)). SBA is not aware of any Federal rule that would duplicate or conflict with establishing size standards.

However, the Small Business Act and SBA's regulations allow Federal agencies to develop different size standards if they believe that SBA's size standards are not appropriate for their programs, with the approval of SBA's Administrator (13 CFR 121.903). The Regulatory Flexibility Act authorizes an Agency to establish an alternative small business definition, after consultation with the Office of Advocacy of the U.S. Small Business Administration (5 U.S.C. 601(3)).

5. What alternatives will allow the Agency to accomplish its regulatory objectives while minimizing the impact on small entities?

By law, SBA is required to develop numerical size standards for establishing eligibility for Federal small business assistance programs. Other than varying size standards by industry and changing the size measures, no practical alternative exists to the systems of numerical size standards.

List of Subjects in 13 CFR Part 121

Administrative practice and procedure, Government procurement, Government property, Grant programs—business, Individuals with disabilities, Loan programs—business, Reporting and recordkeeping requirements, Small businesses.

For the reasons set forth in the preamble, SBA proposes to amend part 13 CFR part 121 as follows:

PART 121—SMALL BUSINESS SIZE REGULATIONS

1. The authority citation for part 121 continues to read as follows:

Authority: 15 U.S.C. 632, 634(b)(6), 662, and 694a(9).

2. In § 121.201, amend the table “Small Business Size Standards by NAICS Industry” as follows:

a. Revise the entries for “311111”, “311211”, “311221”, “311314”, “311340”, “311351”, “311352”, “311411”, “311412”, 311421”, “311422”, “311423”, “311511”, “311512”, “311513”, “311514”, “311520”, “311611”, “311612”, “311613”, “311615”, “311710”, “311812”, “311813”, “311821”, “311824”, “311830”, “311911”, “311919”, “311920”, “311930”, “311941”, “312111”, “312112”, “312113”, “312120”, “312130”, “312140”, “312230”, “313110”, “313230”, “314110”, “314120”, “315110”, “315190”, “315210”, “315220”, “315240”, “315280”, “316992”, “321212”, “321213”, “321219”, “321911”, “321991”, “322121”, “322130”, “322211”, “322219”, “322220”, “322230”, “322291”, “323117”, “324110”, “324191”, “325194”, “325199”, “325211”, “325312”, “325320”, “325411”, “325412”, “325413”, “325414”, “325510”, “325611”, “325612”, “325613”, “325620”, “325992”, “326111”, “326112”, “326113”, “326122”, “326140”, “326150”, “326160”, “326191”, “326211”, “326220”, “326291”, “327110”, “327212”, “327213”, “327215”, “327310”, “327332”, “327410”, “327420”, “327910”, “327993”, “331110”, “331315”, “331511”, “331512”, “332111”, “332112”, “332215”, “332216”, “332311”, “332313”, “332321”, “332410”, “332420”, “332431”, “332510”, “332911”, “332912”, “332913”, “332919”, “332991”, “332992”, “333111”, “333112”, “333120”, “333132”, “333242”, “333244”, “333415”, “333611”, “333612”, “333613”, “333618”, “333911”, “333912”, “333913”, “333921”, “333923”, “333992”, “333995”, “333996”, “334111”, “334112”, “334210”, “334220”, “334412”, “334413”, “334417”, “334418”, “334510”, “334511”, “334513”, “334514”, “334515”, “334516”, “334517”, “334614”, “335110”, “335121”, “335210”, “335221”, “335222”, “335224”, “335228”, “335312”, “335313”, “335911”, “335932”, “336111”, “336112”, “336120”, “336212”, “336213”, “336214”, “336310”, “336320”, “336330”, “336340”, “336350”, “336360”, “336370”, “336390”, “336412”, “336413”, “336414”, “336415”, “336510”, “336611”, “336612”, “336991”, “336992”, “336999”, “337110”, “337121”, “337122”, “337124”, “337125”, “337211”, “337214”, “337910”, “337920”, “339112”, “339113”, “339114”, “339115”, “339920”, “339940”, “339992”, “339993”, and “339995”.

b. Revise footnotes 3, 4, 5, and 7.

The revisions read as follows:

§ 121.201 What size standards has SBA identified by North American Industry Classification System codes?

* * * * *

Small Business Size Standards by NAICS Industry
NAICS codes | NAICS U.S. industry title | Size standards in millions of dollars | Size standards in number of employees
* * * * * * *
311111 | Dog and Cat Food Manufacturing |  | 1,000
* * * * * * *
311211 | Flour Milling |  | 1,000
* * * * * * *
311221 | Wet Corn Milling |  | 1,250
* * * * * * *
311314 | Cane Sugar Manufacturing |  | 1,000
311340 | Nonchocolate Confectionery Manufacturing |  | 1,000
311351 | Chocolate and Confectionery Manufacturing from Cacao Beans |  | 1,250
311352 | Confectionery Manufacturing from Purchased Chocolate |  | 1,000
311411 | Frozen Fruit, Juice, and Vegetable Manufacturing |  | 1,000
311412 | Frozen Specialty Food Manufacturing |  | 1,250
311421 | Fruit and Vegetable Canning ³ |  | ³1,000
311422 | Specialty Canning |  | 1,250
311423 | Dried and Dehydrated Food Manufacturing |  | 750
311511 | Fluid Milk Manufacturing |  | 1,000
311512 | Creamery Butter Manufacturing |  | 750
311513 | Cheese Manufacturing |  | 1,250
311514 | Dry, Condensed, and Evaporated Dairy Product Manufacturing |  | 750
311520 | Ice Cream and Frozen Dessert Manufacturing |  | 1,000
311611 | Animal (except Poultry) Slaughtering |  | 1,000
311612 | Meat Processed from Carcasses |  | 1,000
311613 | Rendering and Meat Byproduct Processing |  | 750
311615 | Poultry Processing |  | 1,250
311710 | Seafood Product Preparation and Packaging |  | 750
* * * * * * *
311812 | Commercial Bakeries |  | 1,000
311813 | Frozen Cakes, Pies, and Other Pastries Manufacturing |  | 750
311821 | Cookie and Cracker Manufacturing |  | 1,250
311824 | Dry Pasta, Dough, and Flour Mixes Manufacturing from Purchased Flour |  | 750
311830 | Tortilla Manufacturing |  | 1,250
311911 | Roasted Nuts and Peanut Butter Manufacturing |  | 750
311919 | Other Snack Food Manufacturing |  | 1,250
311920 | Coffee and Tea Manufacturing |  | 750
311930 | Flavoring Syrup and Concentrate Manufacturing |  | 1,000
311941 | Mayonnaise, Dressing, and Other Prepared Sauce Manufacturing |  | 750
* * * * * * *
312111 | Soft Drink Manufacturing |  | 1,250
312112 | Bottled Water Manufacturing |  | 1,000
312113 | Ice Manufacturing |  | 750
312120 | Breweries |  | 1,250
312130 | Wineries |  | 1,000
312140 | Distilleries |  | 1,000
312230 | Tobacco Manufacturing |  | 1,500
313110 | Fiber, Yarn, and Thread Mills |  | 1,250
* * * * * * *
313230 | Nonwoven Fabric Mills |  | 750
* * * * * * *
314110 | Carpet and Rug Mills |  | 1,500
314120 | Curtain and Linen Mills |  | 750
* * * * * * *
315110 | Hosiery and Sock Mills |  | 750
315190 | Other Apparel Knitting Mills |  | 750
315210 | Cut and Sew Apparel Contractors |  | 750
315220 | Men's and Boys' Cut and Sew Apparel Manufacturing |  | 750
315240 | Women's, Girls', and Infants' Cut and Sew Apparel Manufacturing |  | 750
315280 | Other Cut and Sew Apparel Manufacturing |  | 750
* * * * * * *
316992 | Women's Handbag and Purse Manufacturing |  | 750
* * * * * * *
321212 | Softwood Veneer and Plywood Manufacturing |  | 1,250
321213 | Engineered Wood Member (except Truss) Manufacturing |  | 750
* * * * * * *
321219 | Reconstituted Wood Product Manufacturing |  | 750
321911 | Wood Window and Door Manufacturing |  | 1,000
* * * * * * *
321991 | Manufactured Home (Mobile Home) Manufacturing |  | 1,250
* * * * * * *
322121 | Paper (except Newsprint) Mills |  | 1,250
* * * * * * *
322130 | Paperboard Mills |  | 1,250
322211 | Corrugated and Solid Fiber Box Manufacturing |  | 1,250
* * * * * * *
322219 | Other Paperboard Container Manufacturing |  | 1,000
322220 | Paper Bag and Coated and Treated Paper Manufacturing |  | 750
322230 | Stationery Product Manufacturing |  | 750
322291 | Sanitary Paper Product Manufacturing |  | 1,500
* * * * * * *
323117 | Books Printing |  | 1,250
* * * * * * *
324110 | Petroleum Refineries ⁴ |  | ⁴1,500
* * * * * * *
324191 | Petroleum Lubricating Oil and Grease Manufacturing |  | 750
* * * * * * *
325194 | Cyclic Crude, Intermediate, and Gum and Wood Chemical Manufacturing |  | 1,250
325199 | All Other Basic Organic Chemical Manufacturing |  | 1,250
325211 | Plastics Material and Resin Manufacturing |  | 1,250
* * * * * * *
325312 | Phosphatic Fertilizer Manufacturing |  | 750
* * * * * * *
325320 | Pesticide and Other Agricultural Chemical Manufacturing |  | 1,000
325411 | Medicinal and Botanical Manufacturing |  | 1,000
325412 | Pharmaceutical Preparation Manufacturing |  | 1,250
325413 | In-Vitro Diagnostic Substance Manufacturing |  | 1,250
325414 | Biological Product (except Diagnostic) Manufacturing |  | 1,250
325510 | Paint and Coating Manufacturing |  | 1,000
* * * * * * *
325611 | Soap and Other Detergent Manufacturing |  | 1,000
325612 | Polish and Other Sanitation Good Manufacturing |  | 750
325613 | Surface Active Agent Manufacturing |  | 750
325620 | Toilet Preparation Manufacturing |  | 1,250
* * * * * * *
325992 | Photographic Film, Paper, Plate, and Chemical Manufacturing |  | 1,500
* * * * * * *
326111 | Plastics Bag and Pouch Manufacturing |  | 750
326112 | Plastics Packaging Film and Sheet (including Laminated) Manufacturing |  | 1,000
326113 | Unlaminated Plastics Film and Sheet (except Packaging) Manufacturing |  | 750
* * * * * * *
326122 | Plastics Pipe and Pipe Fitting Manufacturing |  | 750
* * * * * * *
326140 | Polystyrene Foam Product Manufacturing |  | 1,000
326150 | Urethane and Other Foam Product (except Polystyrene) Manufacturing |  | 750
326160 | Plastics Bottle Manufacturing |  | 1,250
326191 | Plastics Plumbing Fixture Manufacturing |  | 750
* * * * * * *
326211 | Tire Manufacturing (except Retreading) ⁵ |  | ⁵1,500
* * * * * * *
326220 | Rubber and Plastics Hoses and Belting Manufacturing |  | 750
326291 | Rubber Product Manufacturing for Mechanical Use |  | 750
* * * * * * *
327110 | Pottery, Ceramics, and Plumbing Fixture Manufacturing |  | 1,000
* * * * * * *
327212 | Other Pressed and Blown Glass and Glassware Manufacturing |  | 1,250
327213 | Glass Container Manufacturing |  | 1,250
327215 | Glass Product Manufacturing Made of Purchased Glass |  | 1,000
327310 | Cement Manufacturing |  | 1,000
* * * * * * *
327332 | Concrete Pipe Manufacturing |  | 750
* * * * * * *
327410 | Lime Manufacturing |  | 750
327420 | Gypsum Product Manufacturing |  | 1,500
327910 | Abrasive Product Manufacturing |  | 750
* * * * * * *
327993 | Mineral Wool Manufacturing |  | 1,500
* * * * * * *
331110 | Iron and Steel Mills and Ferroalloy Manufacturing |  | 1,500
* * * * * * *
331315 | Aluminum Sheet, Plate, and Foil Manufacturing |  | 1,250
* * * * * * *
331511 | Iron Foundries |  | 1,000
331512 | Steel Investment Foundries |  | 1,000
* * * * * * *
332111 | Iron and Steel Forging |  | 750
332112 | Nonferrous Forging |  | 750
* * * * * * *
332215 | Metal Kitchen Cookware, Utensil, Cutlery, and Flatware (except Precious) Manufacturing |  | 750
332216 | Saw Blade and Handtool Manufacturing |  | 750
332311 | Prefabricated Metal Building and Component Manufacturing |  | 750
* * * * * * *
332313 | Plate Work Manufacturing |  | 750
332321 | Metal Window and Door Manufacturing |  | 750
* * * * * * *
332410 | Power Boiler and Heat Exchanger Manufacturing |  | 750
332420 | Metal Tank (Heavy Gauge) Manufacturing |  | 750
332431 | Metal Can Manufacturing |  | 1,500
* * * * * * *
332510 | Hardware Manufacturing |  | 750
* * * * * * *
332911 | Industrial Valve Manufacturing |  | 750
332912 | Fluid Power Valve and Hose Fitting Manufacturing |  | 1,000
332913 | Plumbing Fixture Fitting and Trim Manufacturing |  | 1,000
332919 | Other Metal Valve and Pipe Fitting Manufacturing |  | 750
332991 | Ball and Roller Bearing Manufacturing |  | 1,250
332992 | Small Arms Ammunition Manufacturing |  | 1,250
* * * * * * *
333111 | Farm Machinery and Equipment Manufacturing |  | 1,250
333112 | Lawn and Garden Tractor and Home Lawn and Garden Equipment Manufacturing |  | 1,500
333120 | Construction Machinery Manufacturing |  | 1,250
* * * * * * *
333132 | Oil and Gas Field Machinery and Equipment Manufacturing |  | 1,250
* * * * * * *
333242 | Semiconductor Machinery Manufacturing |  | 1,500
* * * * * * *
333244 | Printing Machinery and Equipment Manufacturing |  | 750
* * * * * * *
333415 | Air-Conditioning and Warm Air Heating Equipment and Commercial and Industrial Refrigeration Equipment Manufacturing |  | 1,250
* * * * * * *
333611 | Turbine and Turbine Generator Set Units Manufacturing |  | 1,500
333612 | Speed Changer, Industrial High-Speed Drive, and Gear Manufacturing |  | 750
333613 | Mechanical Power Transmission Equipment Manufacturing |  | 750
333618 | Other Engine Equipment Manufacturing |  | 1,500
333911 | Pump and Pumping Equipment Manufacturing |  | 750
333912 | Air and Gas Compressor Manufacturing |  | 1,000
333913 | Measuring and Dispensing Pump Manufacturing |  | 750
333921 | Elevator and Moving Stairway Manufacturing |  | 1,000
* * * * * * *
333923 | Overhead Traveling Crane, Hoist, and Monorail System Manufacturing |  | 1,250
* * * * * * *
333992 | Welding and Soldering Equipment Manufacturing |  | 1,250
* * * * * * *
333995 | Fluid Power Cylinder and Actuator Manufacturing |  | 750
333996 | Fluid Power Pump and Motor Manufacturing |  | 1,250
* * * * * * *
334111 | Electronic Computer Manufacturing |  | 1,250
334112 | Computer Storage Device Manufacturing |  | 1,250
* * * * * * *
334210 | Telephone Apparatus Manufacturing |  | 1,250
334220 | Radio and Television Broadcasting and Wireless Communications Equipment Manufacturing |  | 1,250
* * * * * * *
334412 | Bare Printed Circuit Board Manufacturing |  | 750
334413 | Semiconductor and Related Device Manufacturing |  | 1,250
* * * * * * *
334417 | Electronic Connector Manufacturing |  | 1,000
334418 | Printed Circuit Assembly (Electronic Assembly) Manufacturing |  | 750
* * * * * * *
334510 | Electromedical and Electrotherapeutic Apparatus Manufacturing |  | 1,250
334511 | Search, Detection, Navigation, Guidance, Aeronautical, and Nautical System and Instrument Manufacturing |  | 1,250
* * * * * * *
334513 | Instruments and Related Products Manufacturing for Measuring, Displaying, and Controlling Industrial Process Variables |  | 750
334514 | Totalizing Fluid Meter and Counting Device Manufacturing |  | 750
334515 | Instrument Manufacturing for Measuring and Testing Electricity and Electrical Signals |  | 750
334516 | Analytical Laboratory Instrument Manufacturing |  | 1,000
334517 | Irradiation Apparatus Manufacturing |  | 1,000
* * * * * * *
334614 | Software and Other Prerecorded Compact Disc, Tape, and Record Reproducing |  | 1,250
335110 | Electric Lamp Bulb and Part Manufacturing |  | 1,250
335121 | Residential Electric Lighting Fixture Manufacturing |  | 750
* * * * * * *
335210 | Small Electrical Appliance Manufacturing |  | 1,500
335221 | Household Cooking Appliance Manufacturing |  | 1,500
335222 | Household Refrigerator and Home Freezer Manufacturing |  | 1,250
335224 | Household Laundry Equipment Manufacturing |  | 1,250
335228 | Other Major Household Appliance Manufacturing |  | 1,000
* * * * * * *
335312 | Motor and Generator Manufacturing |  | 1,250
335313 | Switchgear and Switchboard Apparatus Manufacturing |  | 1,250
* * * * * * *
335911 | Storage Battery Manufacturing |  | 1,250
* * * * * * *
335932 | Noncurrent-Carrying Wiring Device Manufacturing |  | 1,000
* * * * * * *
336111 | Automobile Manufacturing |  | 1,500
336112 | Light Truck and Utility Vehicle Manufacturing |  | 1,500
336120 | Heavy Duty Truck Manufacturing |  | 1,500
* * * * * * *
336212 | Truck Trailer Manufacturing |  | 1,000
336213 | Motor Home Manufacturing |  | 1,250
336214 | Travel Trailer and Camper Manufacturing |  | 1,000
336310 | Motor Vehicle Gasoline Engine and Engine Parts Manufacturing |  | 1,000
336320 | Motor Vehicle Electrical and Electronic Equipment Manufacturing |  | 1,000
336330 | Motor Vehicle Steering and Suspension Components (except Spring) Manufacturing |  | 1,000
336340 | Motor Vehicle Brake System Manufacturing |  | 1,250
336350 | Motor Vehicle Transmission and Power Train Parts Manufacturing |  | 1,500
336360 | Motor Vehicle Seating and Interior Trim Manufacturing |  | 1,500
336370 | Motor Vehicle Metal Stamping |  | 1,000
336390 | Other Motor Vehicle Parts Manufacturing |  | 1,000
* * * * * * *
336412 | Aircraft Engine and Engine Parts Manufacturing |  | 1,500
336413 | Other Aircraft Parts and Auxiliary Equipment Manufacturing ⁷ |  | ⁷1,250
336414 | Guided Missile and Space Vehicle Manufacturing |  | 1,250
336415 | Guided Missile and Space Vehicle Propulsion Unit and Propulsion Unit Parts Manufacturing |  | 1,250
* * * * * * *
336510 | Railroad Rolling Stock Manufacturing |  | 1,500
336611 | Ship Building and Repairing |  | 1,250
336612 | Boat Building |  | 1,000
336991 | Motorcycle, Bicycle, and Parts Manufacturing |  | 1,000
336992 | Military Armored Vehicle, Tank, and Tank Component Manufacturing |  | 1,500
336999 | All Other Transportation Equipment Manufacturing |  | 1,000
337110 | Wood Kitchen Cabinet and Countertop Manufacturing |  | 750
337121 | Upholstered Household Furniture Manufacturing |  | 1,000
337122 | Nonupholstered Wood Household Furniture Manufacturing |  | 750
337124 | Metal Household Furniture Manufacturing |  | 750
337125 | Household Furniture (except Wood and Metal) Manufacturing |  | 750
* * * * * * *
337211 | Wood Office Furniture Manufacturing |  | 1,000
* * * * * * *
337214 | Office Furniture (except Wood) Manufacturing |  | 1,000
* * * * * * *
337910 | Mattress Manufacturing |  | 1,000
337920 | Blind and Shade Manufacturing |  | 1,000
* * * * * * *
339112 | Surgical and Medical Instrument Manufacturing |  | 1,000
339113 | Surgical Appliance and Supplies Manufacturing |  | 750
339114 | Dental Equipment and Supplies Manufacturing |  | 750
339115 | Ophthalmic Goods Manufacturing |  | 1,000
* * * * * * *
339920 | Sporting and Athletic Goods Manufacturing |  | 750
* * * * * * *
339940 | Office Supplies (except Paper) Manufacturing |  | 750
* * * * * * *
339992 | Musical Instrument Manufacturing |  | 1,000
339993 | Fastener, Button, Needle, and Pin Manufacturing |  | 750
* * * * * * *
339995 | Burial Casket Manufacturing |  | 1,000
* * * * * * *

* * * * *

Footnotes

* * * * *

3. NAICS code 311421—For purposes of Government procurement for food canning and preserving, the standard of 500 employees excludes agricultural labor as defined in 3306(k) of the Internal Revenue Code, 26 U.S.C. 3306(k).

4. NAICS code 324110—To qualify as small for purposes of Government procurement, the petroleum refiner, including its affiliates, must be a concern that has no more than 1,500 employees OR no more than 200,000 barrels per calendar day total Operable Atmospheric Crude Oil Distillation capacity. Capacity includes all domestic and foreign affiliates, owned or leased facilities, and facilities under a processing agreement or an arrangement such as an exchange agreement or a throughput. To qualify under the capacity size standard, the firm, together with its affiliates, must be primarily engaged in refining crude petroleum into refined petroleum products. A firm's “primary industry” is determined in accordance with 13 CFR 121.107.

5. NAICS code 326211—For Government procurement, a firm is small for bidding on a contract for pneumatic tires within Census NAICS Product Classification codes 3262111 and 3262113, provided that:

(a) The value of tires within Census NAICS Product Classification codes 3262113 which it manufactured in the United States during the previous calendar year is more than 50 percent of the value of its total worldwide manufacture,

(b) The value of pneumatic tires within Census NAICS Product Classification codes 3262113 comprising its total worldwide manufacture during the preceding calendar year was less than 5 percent of the value of all such tires manufactured in the United States during that period, and

(c) The value of the principal product which it manufactured or otherwise produced, or sold worldwide during the preceding calendar year is less than 10 percent of the total value of such products manufactured or otherwise produced or sold in the United States during that period.

* * * * *

7. NAICS code 336413—Contracts for the rebuilding or overhaul of aircraft ground support equipment on a contract basis are classified under NAICS code 336413.

* * * * *

Dated: August 25, 2014.
Maria Contreras-Sweet,
Administrator.

[FR Doc. 2014-20837 Filed 9-9-14; 8:45 am]

BILLING CODE 8025-01-P